DEPARTMENT OF HEALTH AND HUMAN SERVICES

Centers for Medicare & Medicaid Services

42 CFR Parts 412, 413, 424, and 495

[CMS-1694-CN2]

RIN 0938-AT27

Medicare Program; Hospital Inpatient Prospective Payment Systems for Acute Care Hospitals and the Long Term Care Hospital Prospective Payment System and Policy Changes and Fiscal Year 2019 Rates; Quality Reporting Requirements for Specific Providers; Medicare and Medicaid Electronic Health Record (EHR) Incentive Programs (Promoting Interoperability Programs) Requirements for Eligible Hospitals, Critical Access Hospitals, and Eligible Professionals; Medicare Cost Reporting Requirements; and Physician Certification and Recertification of Claims; Correction

AGENCY: Centers for Medicare & Medicaid Services (CMS), HHS.

ACTION: Final rule; correction.

SUMMARY: This document corrects technical and typographical errors in the final rule that appeared in the August 17, 2018 issue of the Federal Register titled “Medicare Program; Hospital Inpatient Prospective Payment Systems for Acute Care Hospitals and the Long Term Care Hospital Prospective Payment System and Policy Changes and Fiscal Year 2019 Rates; Quality Reporting Requirements for Specific Providers; Medicare and Medicaid Electronic Health Record (EHR) Incentive Programs (Promoting Interoperability Programs) Requirements for Eligible Hospitals, Critical Access Hospitals, and Eligible Professionals; Medicare Cost Reporting Requirements; and Physician Certification and Recertification of Claims”.

DATES: The corrections in this document are effective October 1, 2018.

FOR FURTHER INFORMATION CONTACT: Donald Thompson and Michele Hudson, (410) 786-4487.

SUPPLEMENTARY INFORMATION:

I. Background

In FR Doc. 2018-16766 of August 17, 2018 (83 FR 41144) there were a number of technical and typographical errors that are identified and corrected by the Correction of Errors section of this correcting document. The provisions in this correcting document are effective as if they had been included in the document that appeared in the August 17, 2018 Federal Register. Accordingly, the corrections are effective October 1, 2018.

II. Summary of Errors

A. Summary of Errors in the Preamble

On page 41144, under FOR FURTHER INFORMATION CONTACT section, we are correcting the names of the contacts for Medicare Promoting Interoperability Program issues.

On page 41151, in our discussion regarding Changes to the Hospital Readmissions Reduction Program under “Summary of Cost and Benefits”, we made errors in the impact figures.

On pages 41200, 41219, 41236, and 41313, we made a technical error in using the term “primary” rather than “principal” when in describing certain diagnosis codes or conditions.

On page 41254, we inadvertently omitted a base MS-DRG group to which the listed thoracoscopic procedures of pericardium and pleura may be assigned. Specifically, we are correcting the list of MS-DRGs on page 41254 to include MS-DRGs 166, 167, and 168 (Other Respiratory System O.R. Procedures with MCC, with CC, and without CC/MCC, respectively) in MDC 4 (Diseases and Disorders of the Respiratory System), consistent with the MS-DRGs to which other approaches for procedures involving drainage or extirpation of matter from the pleura are assigned.

On page 41299, we made a technical error in describing which ICD-10-PCS procedure codes will be used to identify cases involving the use of KYMRIAH and YESCARTA that are eligible for new technology add-on payments in FY 2019. Specifically, cases involving the use of KYMRIAH and YESCARTA that are eligible for new technology add-on payments will be identified by either of the ICD-10-PCS procedure codes listed in the final rule (XW033C3 or XW043C3) rather than requiring the combination of both ICD-10-PCS procedure codes.

On page 41311, we made a typographical error in describing which National Drug Code (NDC) will be used to identify cases involving VABOMERE™ that are eligible for new technology add-on payments in FY 2019. Specifically, we are correcting the NDC code of 65293-0009-01, which erroneously was missing an extra digit. In addition, we were made aware after the final rule that NDC 70842-0120-01 can also be used to identify cases of VABOMERE™. Therefore, cases involving the use of VABOMERE™ that are eligible for new technology add-on payments in FY 2019 will be identified with either of the following NDCs: 65293-0009-01 and 70842-0120-01.

On page 41320, we made a typographical error in describing which ICD-10-PCS procedure codes will be used to identify cases involving the remedē® System™ that are eligible for new technology add-on payments in FY 2019. Specifically, we are correcting the ICD-10-PCS procedure code 05H43MZ (Insertion of neurostimulator lead into left innominate vein, percutaneous approach), which had erroneously contained an extra digit.

On page 41334, we made a technical error in describing which ICD-10-PCS procedure codes will be used to identify cases involving ZEMDRI™ that are eligible for new technology add-on payments in FY 2019. Specifically, cases involving the use of ZEMDRI™ that are eligible for new technology add-on payments will be identified by either of the ICD-10-PCS procedure codes listed in the final rule (XW033G4 or XW043G4) rather than requiring the combination of both ICD-10-PCS procedure codes.

On page 41342, we made a technical error in describing which ICD-10-PCS procedure codes will be used to identify cases involving GIAPREZA™ that are eligible for new technology add-on payments in FY 2019. Specifically, cases involving the use of GIAPREZA™ that are eligible for new technology add-on payments will be identified by either of the ICD-10-PCS procedure codes listed in the final rule (XW033H4 or XW043H4) rather than requiring the combination of both ICD-10-PCS procedure codes.

On page 41348, we made a typographical error in stating the applicant's estimated cost of the Sentinel® Cerebral Protection System. Specifically, we stated that the applicant estimated the cost is $2,400, when we should have stated the cost is $2,800.

On page 41362, we made a technical error in describing which ICD-10-PCS procedure codes will be used to identify cases involving AndexXa™ that are eligible for new technology add-on payments in FY 2019. Specifically, cases involving the use of AndexXa™ that are eligible for new technology add-on payments will be identified by either of the ICD-10-PCS procedure codes listed in the final rule (XW03372 or XW04372) rather than requiring the combination of both ICD-10-PCS procedure codes.

On pages 41364, 41365, 41368, and 41375, in our discussion of the wage indexes, we are correcting the number of hospitals with critical access hospital (CAH) status removed from the FY 2019 wage index, the number of hospitals used for the FY 2019 wage index, the number of hospital occupational mix surveys used for the FY 2019 wage index, and the values for the FY 2019 national average hourly wage (unadjusted for occupational mix), the FY 2019 occupational mix adjusted national average hourly wage, and the FY 2019 national average hourly wages for the occupational mix nursing subcategories, due to inadvertent errors related to the following:

• The inclusion of a CAH in the wage data (CMS Certification Number (CCN) 060016).

• Wage data collected from the Medicare cost reports of one hospital (CCN 100044).

• Occupational Mix data collected from one hospital (CCN 010001).

On page 41406, we are correcting a typographical error in our reference to the discussion of the comments received on the proposed methodology for Factor 3.

On page 41415, in our discussion regarding Methodology for Calculating Factor 3 for FY 2019, we are correcting a technical error in the calculation of the CCR ceilings for FY 2014 and FY 2015 and the number of hospitals above the ceiling in each of those years.

On page 41432, in our discussion regarding Regulatory Background of Hospital Readmissions Reduction Program, we made a typographical error in referencing the fiscal year in which the calculation of the proportion of “dually eligible” Medicare beneficiaries used to stratify hospitals into peer groups will begin.

On page 41436, in our discussion regarding Identification of Aggregate Payments for Each Condition/Procedure and All Discharges, we inadvertently omitted language regarding which MedPAR data is included in the program calculations.

On page 41446, we made a technical error in the heading for section IV.I.2.c. by inadvertently stating the incorrect number of measure removal proposals that we were finalizing in the FY 2019 IPPS/LTCH PPS final rule for the Hospital Value-Based Purchasing (VBP) Program.

On page 41452, we made an error in the date of publication of a reference.

On page 41469, in the table entitled “Previously Adopted and Newly Displayed Performance Standards for the FY 2021 Program Year: Safety, Clinical Outcomes, and Efficiency and Cost Reduction Domains,” we inadvertently did not display several of the numbers in the benchmark column to 3 decimal places.

On page 41488, in our discussion regarding analysis of Hospital-Acquired Condition Reduction Program, we made a technical error in referencing hospital's National Healthcare Safety Network (NHSN) Healthcare-Associated Infection (HAI) measures.

On pages 41528 and 41529, we corrected the MS-LTC-DRG budget neutrality factor due to an error in the MS-LTC-DRG weights resulting from the inadvertent inclusion of an all-inclusive rate provider.

On pages 41536 and 41537, due to the changes in the MS-LTC-DRG weights resulting from the correction to the MS-LTC-DRG budget neutrality factor (described previously) and the corrections in the LTCH PPS wage index referenced above and discussed in greater detail below, we made conforming changes to the budget neutrality adjustment factor for the cost of the elimination of the 25-percent threshold policy for FY 2019 and the area wage budget neutrality factor.

On page 41556, in our discussion regarding claims-based-readmission measures, the National Quality Forum (NQF) number for the MORT-30-CABG measure was inadvertently listed as NQF #2515, which is the NQF number for the READM-30-CABG measure.

On page 41558, in our discussion finalizing our proposals to remove the mortality measures, we inadvertently referenced the FY 2020 payment determination twice.

On page 41576, in the table entitled “Summary of Hospital IQR Program Measures Newly Finalized for Removal,” an entry under “Claims-Based Coordination of Care Measures” inadvertently included an “A” in the short name for the Pneumonia Readmission measure.

On page 41579, in the table entitled “Measures for the FY 2021 Payment Determination,” we inadvertently omitted the entry for the FY 2021 payment determination for MORT-30-CABG. In the same table, we made a typographical error by inadvertently including an asterisk at the end of Hospital 30-Day, All-Cause, Risk-Standardized Mortality Rate Following Acute Ischemic Stroke (MORT-30-STK). In the same table, we made a typographical error by inadvertently listing the incorrect NQF number for STK-06, Discharged on Statin Medication measure. In the same table, we inadvertently excluded the word “Venous” from the full measure name of VTE-2, Intensive Care Unit Venous Thromboembolism Prophylaxis.

On page 41599, in our discussion of Social Risk Factors in the Hospital Inpatient Quality Reporting (IQR) Program, we inadvertently used the term “measures” instead of “methods”.

On page 41672, in our discussion regarding the electronic reporting of electronic clinical quality measures (eCQMs) for CY 2019, we incorrectly referred to the Spring 2017 version of the CQM electronic specifications as the most recent version. A more recent version of the specifications was issued after the proposed rule was published, which is the 2018 eCQM specifications update (published in May 2018).

B. Summary of Errors in the Addendum

As discussed in section II.D. of this correcting document, we made several technical errors with regard to the calculation of Factor 3 of the uncompensated care payment methodology. Factor 3 is used to determine the total amount of the uncompensated care payment a hospital is eligible to receive for a fiscal year. This amount is then used to calculate the amount of the interim uncompensated care payments a hospital receives per discharge. Per discharge uncompensated care payments are included when determining total payments for purposes of all of the budget neutrality factors and the final outlier threshold. As a result, the revisions made to address these technical errors regarding the calculation of Factor 3 directly affected the calculation of total payments and required the recalculation of all the budget neutrality factors and the final outlier threshold.

Because of the errors related to the wage data for the three hospitals (CCNs 010001, 060016 and 100044) as discussed in section II.A. of this correcting document, we recalculated the FY 2019 national average hourly wages unadjusted for occupational mix and adjusted for occupational mix which resulted in the recalculation of the final FY 2019 IPPS wage indexes and the geographic adjustment factors (GAFs) (which are computed from the wage index). The final FY 2019 IPPS wage data are used in the calculation of the wage index budget neutrality adjustment when comparing total payments using the final FY 2018 IPPS wage index data to total payments using the final FY 2019 IPPS wage index data. Additionally, the final FY 2019 IPPS wage index data are used when determining total payments for purposes of the rest of the budget neutrality factors (except for the MS-DRG reclassification and recalibration budget neutrality factor) and the final outlier threshold. In addition, the final FY 2019 IPPS wage index data are used to calculate the FY 2019 LTCH PPS wage index values, certain budget neutrality factors, and the LTCH PPS standard Federal payment rate in the FY 2019 IPPS/LTCH PPS final rule.

We also made inadvertent errors related to the status of four providers reclassified from urban to rural under section 1886(d)(8)(E) of the Act (codified in the regulations under § 412.103 and hereinafter referred to as § 412.103). Specifically, the reclassification status in the FY 2019 IPPS/LTCH PPS final rule did not properly reflect the application of urban to rural reclassification under § 412.103 for four providers (CCNs 050025, 050573, 120001 and 120002). We note, provider 050573 was approved by the MGCRB for reclassification (as already reflected in the FY 2019 IPPS/LTCH final rule) in addition to its urban to rural reclassification under § 412.103. Additionally, the final FY 2019 IPPS wage index with reclassification is used when determining total payments for purposes of all budget neutrality factors (except for the MS-DRG reclassification and recalibration budget neutrality factor and the wage index budget neutrality adjustment factor) and the final outlier threshold.

Due to the correction of the combination of errors listed previously (revisions to Factor 3 of the uncompensated care payment methodology, the correction to the final FY 2019 IPPS wage index data adjusted for occupational mix and the correction to the geographic reclassification status of four hospitals), we recalculated all IPPS budget neutrality adjustment factors, the fixed-loss cost threshold, the final wage indexes (and GAFs), and the national operating standardized amounts and capital Federal rate. (We note there was no change to the rural community hospital demonstration program budget neutrality adjustment or the operating outlier adjustment factor resulting from the correction of this combination of errors.) Therefore, we made conforming changes to the following:

• On pages 41715 and 41727, the MS-DRG reclassification and recalibration budget neutrality adjustment factor.

• On page 41716, the following budget neutrality adjustments:

++ Wage index budget neutrality adjustment.

++ Reclassification hospital budget neutrality adjustment.

++ Rural floor budget neutrality adjustment.

• On page 41723, the calculation of the outlier fixed-loss cost threshold, total operating Federal payments, total operating outlier payments, and the outlier adjustment to the capital Federal rate.

• On pages 41724 through 41725, the table titled “Changes From FY 2018 Standardized Amounts to the FY 2019 Standardized Amounts”.

On page 41722, we are also correcting inadvertent technical errors in the figures reported for the covered charges and cases by quarter in the periods used to calculate the charge inflation factor. Specifically, we erroneously presented figures based on total charges for the applicable periods listed in the table rather than the covered charges and the case counts were not correctly aligned with the corresponding quarter. We note that although there were technical errors in the figures as presented in the table and the corresponding discussion on page 41722, the correct figures were used for the outlier calculations in the final rule. In addition, on page 41723, we are correcting technical errors in the description of the formula showing total outlier payments as a percentage of total operating Federal payments.

On pages 41727 through 41729, in our discussion of the determination of the Federal hospital inpatient capital-related prospective payment rate update, due to the recalculation of the GAFs, we have made conforming corrections to the increase in the capital Federal rate, the GAF/DRG budget neutrality adjustment factors, the capital Federal rate, and the outlier threshold (as discussed previously), along with certain statistical figures (for example, percent change) in the accompanying discussions. Also, as a result of these errors we have made conforming corrections in the tables showing the comparison of factors and adjustments for the FY 2018 capital Federal rate and FY 2019 capital Federal rate and the proposed FY 2019 capital Federal rate and final FY 2019 capital Federal rate.

On pages 41730 through 41731, 41733, 41736 and 41737, due to corrections in the LTCH PPS wage index discussed previously, we are making conforming corrections to the following:

• The area wage level adjustment budget neutrality factor.

• The fixed-loss amount for FY 2019 LTCH PPS standard Federal payment rate discharges and the high-cost outlier (HCO) threshold.

• The budget neutrality adjustment factor for the cost of the elimination of the 25-percent threshold policy for FY 2019 and the FY 2019 LTCH PPS standard Federal payment rate.

• The fixed-loss amount for FY 2019 site neutral payment rate discharges and the high-cost outlier (HCO) threshold (based on the corrections to the IPPS fixed-loss amount discussed previously).

On pages 41738 and 41739, we are making conforming corrections to the figures used in the example of computing the adjusted LTCH PPS Federal prospective payment for FY 2019.

On pages 41740 and 41741, we are making conforming corrections to the following:

• National adjusted operating standardized amounts and capital standard Federal payment rate (which also include the rates payable to hospitals located in Puerto Rico) in Tables 1A, 1B, 1C, and 1D as a result of the conforming corrections to certain budget neutrality factors and the outlier threshold (as described previously). We are also correcting a typographical error in the update factor presented in the column heading for a hospital that submitted quality data and is a meaningful EHR user.

• LTCH PPS standard Federal payment rate in Table 1E as a result of the correction to the LTCH PPS wage index values (as discussed previously).

C. Summary of Errors in the Appendices

On pages 41742, 41744 through 41751, and 41763 through 41765 in our regulatory impact analyses, we made conforming corrections to the factors, values, and tables and accompanying discussion of the changes in operating and capital IPPS payments for FY 2019 and the effects of certain IPPS budget neutrality factors as a result of the technical errors that lead to conforming changes in our calculation of the operating and capital IPPS budget neutrality factors, outlier threshold, final wage indexes, operating standardized amounts, and capital Federal rate (as described in sections II.A. and II.B. of this correcting document).

In particular, we made changes to the following tables:

• On pages 41744 through 41746, the table titled “Table I—Impact Analysis of Changes to the IPPS for Operating Costs for FY 2019”.

• On pages 41748 through 41749, the table titled “FY 2019 IPPS Estimated Payments Due To Rural Floor With National Budget Neutrality”.

• On pages 41750 through 41751, the table titled “Table II—Impact Analysis of Changes for FY 2019 Acute Care Hospital Operating Prospective Payment System [Payments per discharge]”.

• On pages 41764 through 41765, the table titled “Table III—Comparison of Total Payments per Case [FY 2018 payments compared to FY 2019 payments]”.

On pages 41753 through 41755, we are correcting the discussion of the “Effects of the Changes to Medicare DSH and Uncompensated Care Payments for FY 2019” for purposes of the Regulatory Impact Analysis in Appendix A of the FY 2019 IPPS/LTCH PPS final rule, including the table titled “MODELED UNCOMPENSATED CARE PAYMENTS FOR ESTIMATED FY 2019 DSHs BY HOSPITAL TYPE: MODEL UCP $ (IN MILLIONS) * FROM FY 2018 to FY 2019” on pages 41753 and 41754, in light of the corrections discussed in section II.D. of this correcting document.

On page 41756, in our discussion of the effects of changes under the FY 2019 Hospital Value-Based Purchasing (VBP) Program that appears in Appendix A, we are correcting an inadvertent reference to the word “proposed” in the heading for section I.H.6.a in the first column at the bottom of the page and in line 1 of the last paragraph of the second column at the bottom of the page.

On pages 41758 through 41759, in table entitled “Estimated Proportion of Hospitals in the Worst-Performing Quartile (>75th Percentile) of the Total HAC Scores for the FY 2019 HAC Reduction Program”, we inadvertently included incorrect data.

On pages 41766 and 41768 through 41769, we made conforming corrections to the LTCH PPS area wage level budget neutrality factor, the budget neutrality adjustment factor for the cost of the elimination of the 25-percent threshold policy for FY 2019, and the LTCH PPS standard Federal payment rate as described in section II.B. of this correcting document.

On pages 41768 through 41770, we are making conforming corrections to “Table IV—Impact of Payment Rate and Policy Changes to LTCH PPS Payments for Standard Payment Rate Cases for FY 2019” and the corresponding summary text. We are also correcting the inadvertent mislabeling of the Pacific and Mountain rows in that table.

D. Summary of Errors in and Corrections to Files and Tables Posted on the CMS Website

We are correcting the errors in the following IPPS tables that are listed on pages 41739 through 41740 of the FY 2019 IPPS/LTCH PPS final rule and are available on the internet on the CMS website at https://www.cms.gov/Medicare/Medicare-Fee-for-Service-Payment/AcuteInpatientPPS/FY2019-IPPS-Final-Rule-Home-Page.html. The tables that are available on the internet have been updated to reflect the revisions discussed in this correcting document.

Table 2—Case-Mix Index and Wage Index Table by CCN-FY 2019. The wage data errors (as discussed in section II.A. of this correcting document) related to the three hospitals (CCNs 010001, 060016, and 100044) required the recalculation of the FY 2019 national average hourly wages unadjusted for occupational mix and adjusted for occupational mix which resulted in recalculating the FY 2019 wage indexes. Additionally, for the four providers (CCNs 050025, 050573, 120001, and 120002) for which we are applying urban to rural reclassification under § 412.103 (as discussed in section II.B. of this correcting document), we are correcting the values where applicable in the columns titled “FY 2019 Wage Index”, “Reclassified/Redesignated CBSA”, “Hospital Reclassified as Rural Under Section 1886(d)(8)(E) of the Act (§ 412.103)” and “Dual Status 412.103 and MGCRB/LUGAR”. Also, the revisions to Factor 3 of the uncompensated care payment methodology and recalculation of the FY 2019 wage index necessitated the recalculation of the rural floor budget neutrality factor (as discussed in section II.B. of this correcting document). Therefore, we are correcting the values in the column titled “FY 2019 Wage Index” for all hospitals. Additionally, for the two hospitals (CCNs 010001 and 100044) for which we inadvertently used the incorrect wage and occupational mix data (as discussed in section II.A. of this correcting document), we are correcting the average hourly wages in the columns titled “Average Hourly Wage FY 2019” and “3-Year Average Hourly Wage (2017, 2018, 2019)”. Furthermore, we are deleting provider 060016 from the wage index and Table 2 since it is a CAH (as discussed in section II.A. of this correcting document).

Table 3.—Wage Index Table by CBSA—FY 2019. The correction of the wage data errors (as discussed in section II.A. of this correcting document) related to the three hospitals (CCNs 010001, 060016, and 100044) required the recalculation of the FY 2019 national average hourly wage adjusted for occupational mix which resulted in recalculating the FY 2019 wage indexes. Also, the revisions to Factor 3 of the uncompensated care payment methodology, recalculation of the FY 2019 wage index, and correction of the reclassification errors discussed in section II.B. of this correcting document necessitated the recalculation of the rural floor budget neutrality factor (as discussed in section II.B. of this correcting document). Therefore, we are making corresponding changes to the wage indexes and GAFs of all CBSAs listed in Table 3. Specifically, we are correcting the values and flags in the columns titled “Wage Index”, “Reclassified Wage Index”, “GAF”, “Reclassified GAF”, “Pre-Frontier and/or Pre-Rural Floor Wage Index” and “Eligible for Rural Floor Wage Index”. Also, we are making changes to reflect the application of urban to rural reclassification under § 412.103 for the four providers (CCNs 050025, 050573, 120001 and 120002) discussed in section II.B. of this correcting document. Specifically, we are correcting the values and flags in the columns titled “Wage Index”, “Reclassified Wage Index”, “GAF”, “Reclassified GAF”, “Pre-Frontier and/or Pre-Rural Floor Wage Index” and “Eligible for Rural Floor Wage Index”. Additionally, for the 3 CBSAs (06, 20020, and 38940) where the three hospitals (CCNs 010001, 060016, and 100044) for which there were wage data errors are located (as discussed in section II.A. of this correcting document), we are correcting the average hourly wages in the columns titled “FY 2019 Average Hourly Wage” and “3-Year Average Hourly Wage (2017, 2018, 2019)”.

Table 4.—List of Counties Eligible for the Out-Migration Adjustment under Section 1886(d)(13) of the Act—FY 2019. The correction of the wage data errors related to the three hospitals (CCNs 010001, 060016, and 100044), as discussed in section II.A. of this correcting document, required the recalculation of the FY 2019 national average hourly wage adjusted for occupational mix which resulted in recalculating the FY 2019 wage indexes. Also, the revisions to Factor 3 of the uncompensated care payment methodology, recalculation of the FY 2019 wage indexes, and correction of the reclassification errors discussed in section II.B. of this correcting document necessitated the recalculation of the rural floor budget neutrality factor (as discussed in section II.B. of this correcting document). Also, we are making changes to reflect the application of urban to rural reclassification under § 412.103 for the four providers (CCNs 050025, 050573, 120001 and 120002), as discussed in section II.B. of this correcting document. Therefore, we are making corresponding changes to the eligible counties and out migration values listed in Table 4. Specifically, we are correcting the list of counties and values in the columns titled “FIPS County Code”, “County Name”, “State”, “State Code”, “Fiscal Year Begin of Adjustment” and “FY 2019 Out Migration”.

Table 18.—FY 2019 Medicare DSH Uncompensated Care Payment Factor 3. We are correcting this table to reflect revisions to the Factor 3 calculations for purposes of determining uncompensated care payments for the FY 2019 IPPS/LTCH PPS final rule for the following reasons:

• To reflect mergers where data for the merged hospital were not combined with the data for the surviving hospital.

• To correct the projected DSH eligibility for a SCH that now has CAH status, and therefore is no longer included in Table 18.

• To correct a provider's Factor 3 that was inadvertently calculated using the methodology for all-inclusive rate providers.

• To correct the Factor 3s that were computed for hospitals whose FY 2014 or FY 2015 cost report in the June 2018 extract of Healthcare Cost Report Information System (HCRIS) inadvertently omitted amended uncompensated care cost data that had been reported by the hospital on an amended Worksheet S-10 in a timely manner per Change Request (CR) 10378 issued on December 1, 2017, or where the FY 2014 or FY 2015 cost report for a DSH eligible hospital had inadvertently been uploaded into HCRIS without making the calculation modifications described in Transmittal 11, and to reflect the cost-to-charge ratio (CCR) trim changes resulting from the inclusion of the inadvertently omitted data.

We are revising Factor 3 for all hospitals to correct these errors. We are also revising the amount of the total uncompensated care payment calculated for each DSH-eligible hospital. The total uncompensated care payment that a hospital receives is used to calculate the amount of the interim uncompensated care payments the hospital receives per discharge. We also corrected the per discharge interim uncompensated care payment for all hospitals to reflect the 2017 discharges as shown on the FY 2019 IPPS Impact File. We also corrected the per discharge interim uncompensated care payment calculated for a merged hospital to reflect the discharges for the subsumed hospital. Per discharge uncompensated care payments are included when determining total payments for purposes of all of the budget neutrality factors and the final outlier threshold. As a result, these corrections to the uncompensated care payments impacted the calculation of all the budget neutrality factors as well as the outlier fixed-loss cost threshold. These corrections will be reflected in Table 18 and the Medicare DSH Supplemental Data File. In section IV.C. of this correcting document, we have made corresponding revisions to the discussion of the “Effects of the Changes to Medicare DSH and Uncompensated Care Payments for FY 2019” for purposes of the Regulatory Impact Analysis in Appendix A of the FY 2019 IPPS/LTCH PPS final rule to reflect the corrections discussed previously.

We are also correcting the errors in the following LTCH PPS tables that are listed on 41739 through 41740 of the FY 2019 IPPS/LTCH PPS final rule and are available on the internet on the CMS website at https://www.cms.gov/Medicare/Medicare-Fee-for-Service-Payment/LongTermCareHospitalPPS/index.html under the list item for regulation number CMS-1694-F. The tables that are available on the internet have been updated to reflect the revisions discussed in this correcting document.

Table 11.—MS-LTC-DRGs, Relative Weights, Geometric Average Length of Stay, Short-Stay Outlier (SSO) Threshold for Discharges Occurring from October 1, 2018 through September 30, 2019 under the LTCH PPS. We are correcting this table to reflect the revisions to the MS-LTC-DRG relative weights, geometric average length-of-stay, and short-stay outlier threshold due to the inadvertent inclusion of an all-inclusive rate provider as discussed in section II.A. of this correcting document.

Table 12A.—LTCH PPS Wage Index for Urban Areas for Discharges Occurring from October 1, 2018 through September 30, 2019. We are correcting this table to reflect the revisions to the LTCH PPS wage index values discussed in section II.A. of this correcting document.

Table 12B.—LTCH PPS Wage Index for Rural Areas for Discharges Occurring from October 1, 2018 through September 30, 2019. We are correcting this table to reflect the revisions to the LTCH PPS wage index values discussed in section II.A. of this correcting document.

III. Waiver of Proposed Rulemaking, 60-Day Comment Period, and Delay in Effective Date

Under 5 U.S.C. 553(b) of the Administrative Procedure Act (APA), the agency is required to publish a notice of the proposed rulemaking in the Federal Register before the provisions of a rule take effect. Similarly, section 1871(b)(1) of the Act requires the Secretary to provide for notice of the proposed rulemaking in the Federal Register and provide a period of not less than 60 days for public comment. In addition, section 553(d) of the APA, and section 1871(e)(1)(B)(i) of the Act mandate a 30-day delay in effective date after issuance or publication of a rule. Sections 553(b)(B) and 553(d)(3) of the APA provide for exceptions from the notice and comment and delay in effective date APA requirements; in cases in which these exceptions apply, sections 1871(b)(2)(C) and 1871(e)(1)(B)(ii) of the Act provide exceptions from the notice and 60-day comment period and delay in effective date requirements of the Act as well. Section 553(b)(B) of the APA and section 1871(b)(2)(C) of the Act authorize an agency to dispense with normal rulemaking requirements for good cause if the agency makes a finding that the notice and comment process are impracticable, unnecessary, or contrary to the public interest. In addition, both section 553(d)(3) of the APA and section 1871(e)(1)(B)(ii) of the Act allow the agency to avoid the 30-day delay in effective date where such delay is contrary to the public interest and an agency includes a statement of support.

We believe that this correcting document does not constitute a rule that would be subject to the notice and comment or delayed effective date requirements. The document corrects technical and typographical errors in the preamble, addendum, payment rates, tables, and appendices included or referenced in the FY 2019 IPPS/LTCH PPS final rule, but does not make substantive changes to the policies or payment methodologies that were adopted in the final rule. As a result, this correcting document is intended to ensure that the information in the FY 2019 IPPS/LTCH PPS final rule accurately reflects the policies adopted in that document.

In addition, even if this were a rule to which the notice and comment procedures and delayed effective date requirements applied, we find that there is good cause to waive such requirements. Undertaking further notice and comment procedures to incorporate the corrections in this document into the final rule or delaying the effective date would be contrary to the public interest because it is in the public's interest for providers to receive appropriate payments in as timely a manner as possible, and to ensure that the FY 2019 IPPS/LTCH PPS final rule accurately reflects our methodologies and policies. Furthermore, such procedures would be unnecessary, as we are not making substantive changes to our methodologies or policies, but rather, we are simply implementing correctly the methodologies and policies that we previously proposed, requested comment on, and subsequently finalized. This correcting document is intended solely to ensure that the FY 2019 IPPS/LTCH PPS final rule accurately reflects these methodologies and policies. Therefore, we believe we have good cause to waive the notice and comment and effective date requirements.

IV. Correction of Errors

In FR Rule Doc. 2018-16766 of August 17, 2018 (83 FR 41144), we are making the following corrections:

A. Corrections of Errors in the Preamble

1. On page 41144, third column, sixth and seventh full paragraph, the contact information “Elizabeth Holland, (410) 786-1309, Promoting Interoperability Programs. Clinical Quality Measure Related Issues. Kathleen Johnson, (410) 786-3295 and Steven Johnson (410) 786-3332, Promoting Interoperability Programs Nonclinical Quality Measure Related Issues.” is corrected to read “Jessica Wright, (410) 786-3838, Medicare Promoting Interoperability Program”.

2. On page 41151, second column, second bulleted paragraph,

a. Line 13, the figure “2,610” is corrected to read “2,599”.

b. Line 19, the figure “$566” is corrected to read “$550”.

3. On page 41200, between the untitled tables, first column, first full paragraph, line 27, the phrase “primary and secondary diagnoses” is corrected to read “principal and secondary diagnoses”.

4. On page 41219, middle of the page, third column, partial paragraph, line 13, the phrase “primary and secondary diagnoses” is corrected to read “principal and secondary diagnoses”.

5. On page 41236, lower half of the page, third column, first partial paragraph, line 2, the phrase “primary diagnosis” is corrected to read “principal diagnosis”.

6. On page 41254, lower two-thirds of the page, first column, partial paragraph, lines 12 through 17, the phrase “MS-DRGs 163, 164, and 165 (Major Chest Procedures with MCC, with CC, and without CC/MCC, respectively) in MDC 4 (Diseases and Disorders of the Respiratory System);” to read “MS-DRGs 163, 164, and 165 (Major Chest Procedures with MCC, with CC, and without CC/MCC, respectively) and MS-DRGs 166, 167, and 168 (Other Respiratory System O.R. Procedures with MCC, with CC, and without CC/MCC, respectively) in MDC 4 (Diseases and Disorders of the Respiratory System);”.

7. On page 41299, second column, first partial paragraph, lines 2 through 7, the sentence “Cases involving KYMRIAH and YESCARTA that are eligible for new technology add-on payments will be identified by ICD-10-PCS procedure codes XW033C3 and XW043C3.” is corrected to read “Cases involving KYMRIAH and YESCARTA that are eligible for new technology add-on payments will be identified by either of the following ICD-10-PCS procedure codes: XW033C3 (Introduction of engineered autologous chimeric antigen receptor T-cell immunotherapy into peripheral vein, percutaneous approach, new technology group 3) or XW043C3 (Introduction of engineered autologous chimeric antigen receptor T-cell immunotherapy into central vein, percutaneous approach, new technology group 3).”

8. On page 41311, second column, first partial paragraph, lines 46 through 51, the phrase “FY 2019 cases involving the use of VABOMERE™ that are eligible for the FY 2019 new technology add-on payments will be identified by the NDC of 65293-009-01 (VABOMERE™ Meropenem-Vaborbactam Vial).” is corrected to read “FY 2019 cases involving the use of VABOMERE™ that are eligible for the FY 2019 new technology add-on payments will be identified by the NDC of 65293-0009-01 (VABOMERE™ Meropenem-Vaborbactam Vial).”

9. On page 41313, first column, first partial paragraph, line 8, the phrase “primary diagnosis” is corrected to read “principal diagnosis”.

10. On page 41320, second column, first partial paragraph, line 15, the code “05H043MZ” is corrected to read “05H43MZ”.

11. On page 41334, second column, first full paragraph, lines 20 through 24, the sentence “Cases involving ZEMDRI™ that are eligible for new technology add-on payments will be identified by ICD-10-PCS procedure codes XW033G4 and XW043G4.” is corrected to read “Cases involving ZEMDRI™ that are eligible for new technology add-on payments will be identified by either of the following ICD-10-PCS procedure codes: XW033G4 (Introduction of Plazomicin anti-infective into peripheral vein, percutaneous approach, new technology group 4) or XW043G4 (Introduction of Plazomicin anti-infective into central vein, percutaneous approach, new technology group 4).”

12. On page 41342, second column, first partial paragraph, lines 3 and 4, the phrase “identified by ICD-10-PCS procedure codes XW033H4 and XW043H4.” is corrected to read “identified by either of the following ICD-10-PCS procedure codes: XW033H4 (Introduction of synthetic human angiotensin II into peripheral vein, percutaneous approach, new technology group 4) or XW043H4 (Introduction of synthetic human angiotensin II into central vein, percutaneous approach, new technology group 4).”

13. On page 41348, second column, first full paragraph, line 17, the figure “$2,400” is corrected to read “$2,800”.

14. On page 41362, first column, first partial paragraph, lines 4 through 7, the phrase “eligible for new technology add-on payments will be identified by ICD-10-PCS procedure codes XW03372 and XW04372.” is corrected to read “eligible for new technology add-on payments will be identified by either of the following ICD-10-PCS procedure codes: XW03372 (Introduction of Andexanet alfa, factor Xa inhibitor reversal agent into peripheral vein, percutaneous approach, new technology group 2) or XW04372 (Introduction of Andexanet alfa, factor Xa inhibitor reversal agent into central vein, percutaneous approach, new technology group 2).”

15. On page 41364, third column, first partial paragraph—

a. Line 10, the figure “3” is corrected to read “4”.

b. Line 18, the figure “11” is corrected to read “12”.

c. Line 21, the figure “3” is corrected to read “4”.

d. Line 23, the figure “3,283” is corrected to read “3,282”.

e. Lines 23 through 24, the figure “(3,260 + 28 − 2 − 3 = 3,283)” is corrected to read “(3,260 + 28 − 2 − 4 = 3,282)”.

16. On page 41365—

a. Second column, third full paragraph, last line, the figure “$42.997789358” is corrected to read “$42.998002633”.

b. Third column, first partial paragraph, line 32, the figure “$42.997789358” is corrected to read “$42.998002633”.

17. On page 41368, third column, first partial paragraph, line 21, the figure “3,283” is corrected to read “3,282”.

18. On page 41375—

a. Second column—

i. First partial paragraph—

A. Line 2, the figure “3,283” is corrected to read “3,282”.

B. Line 3, the figure “3,114” is corrected to read “3,113”.

C. Lines 6 and 7, the parenthetical figures “(3,114/3,283)” are corrected to read “(3,113/3,282)”.

D. Last line, the figure “$42.955567020” is corrected to read “$42.955981146”.

ii. Following the first full paragraph the untitled table is corrected to read as follows:

Final unadjusted national average hourly wage | Final occupational mix adjusted national average hourly wage
$42.998002633 | $42.955981146

b. Third column,

i. Top of the column (before the first full paragraph), the untitled table is corrected to read as follows:

Occupational mix nursing subcategory | Average hourly wage
National RN | $41.65745883
National LPN and Surgical Technician | 24.73751208
National Nurse Aide, Orderly, and Attendant | 16.96596364
National Medical Assistant | 18.13187187
National Nurse Category | 35.03615689

ii. First full paragraph, line 4, the figure “$35.04005228” is corrected to read “$35.03615689”.

19. On page 41406, second column, first full paragraph, line 30, the term “Facto” is corrected to read “Factor”.

20. On page 41415, third column—

a. Second full paragraph,

i. Line 26, the phrase “5 hospitals” is corrected to read “16 hospitals”.

ii. Line 28, the figure “1.031” is corrected to read “1.032”.

iii. Line 30, the figure “0.93” is corrected to read “0.929”.

b. Fourth full paragraph, line 10, the phrase “14 hospitals” is corrected to read “25 hospitals”.

21. On page 41432, first column, first partial paragraph, lines 2 and 3, the phrase “FY 2018” is corrected to read “FY 2019”.

22. On page 41436, second column, last bulleted paragraph, the sentence, “March 2018 update of the FY 2017 MedPAR files to identify claims within FY 2017” is corrected to read “March 2018 update of the FY 2017 MedPAR file to identify claims within FY 2017 with discharge dates that are on or before June 30, 2017.”

23. On page 41446, third column, section heading “c. Removal of Ten Measures From the Hospital VBP Program” is corrected to read “c. Removal of Four Measures From the Hospital VBP Program”.

24. On page 41452, third column, footnote paragraph (footnote 241), the date “(August 20, 2017)” is corrected to read “(August 30, 2017)”.

25. On page 41469, table titled “Previously Adopted and Newly Displayed Performance Standards for the FY 2021 Program Year: Safety, Clinical Outcomes, and Efficiency and Cost Reduction Domains”, under “Safety Domain”, the entries in the “Benchmark” column for the CAUTI, CLABSI, MRSA Bacteremia, and Colon and Abdominal Hysterectomy SSI measures are corrected to read to three decimal places as follows:

Measure short name | Achievement threshold | Benchmark
Safety Domain
CAUTI | 0.774 | 0.000
CLABSI | 0.687 | 0.000
CDI | 0.748 | 0.067
MRSA Bacteremia | 0.763 | 0.000
Colon and Abdominal Hysterectomy SSI | • 0.754 • 0.726 | • 0.000 • 0.000

26. On page 41488, first column, last paragraph, line 7, the phrase “HAI data” is corrected to read “HAI measure”.

27. On page 41528, third column, last paragraph, line 29, the figure “0.9931052” is corrected to read “0.9935905”.

28. On page 41529, first column, first full paragraph, line 7, the figure “0.9931052” is corrected to read “0.9935905”.

29. On page 41536, third column—

a. First bulleted paragraph, line 2, the figure “0.990884” is corrected to read “0.990878”.

b. Second bulleted paragraph, line 2, the figure “0.990741” is corrected to read “0.990737”.

30. On page 41537—

a. Second column, last paragraph, last line, the figure “0.990741” is corrected to read “0.990737”.

b. Third column, second full paragraph—

i. Line 6, the figure “0.990884” is corrected to read “0.990878”.

ii. Lines 13, the figure “0.990884” is corrected to read “0.990878”.

31. On page 41556, third column, last bulleted paragraph, line 4, the parenthetical phrase (NQF # 2515) is corrected to read “(NQF # 2558)”.

32. On page 41558, second column, last paragraph, line 7, the phrase “FYs 2020, 2021, and 2020” is corrected to read “FYs 2020, 2021, and 2022”

33. On page 41576, in the table titled “SUMMARY OF HOSPITAL IQR PROGRAM MEASURES NEWLY FINALIZED FOR REMOVAL,” under the “Claims-Based Coordination of Care Measures”, first column (Short name), the fifth entry “READM-30-PNA” is corrected to read “READM-30-PN”.

34. On page 41579, table titled “MEASURES FOR THE FY 2021 PAYMENT DETERMINATION,” under “Claims-Based Mortality Measures”, the following entries are corrected by:

a. Removing the inadvertently included asterisk at the end of the full measure name for MORT-30-STK; and

b. Adding a row to the table to include an entry for MORT-30-CABG, which was inadvertently omitted, such that the table will read as follows:

Claims-Based Mortality Measures
MORT-30-CABG | Hospital 30-Day, All-Cause, Risk-Standardized Mortality Rate Following Coronary Artery Bypass Graft (CABG) Surgery | 2558
MORT-30-STK | Hospital 30-Day, All-Cause, Risk-Standardized Mortality Rate Following Acute Ischemic Stroke | N/A

35. On page 41579, table titled “MEASURES FOR THE FY 2021 PAYMENT DETERMINATION,” under “EHR-Based Clinical Process of Care Measures (that is, Electronic Clinical Quality Measures (eCQMs))”, third column (NQF #), line 11, for the entry for STK-06, the NQF number “0438” is corrected to read “0439” as follows:

STK-06 | Discharged on Statin Medication | 0439

36. On page 41579, table titled “MEASURES FOR THE FY 2021 PAYMENT DETERMINATION,” under “EHR-Based Clinical Process of Care Measures (that is, Electronic Clinical Quality Measures (eCQMs))”, second column (Measure Name), the last line down, the measure name for the entry for VTE-2 is corrected from “Intensive Care Unit Thromboembolism Prophylaxis” to reflect the complete measure name “Intensive Care Unit Venous Thromboembolism Prophylaxis.”

VTE-2 | Intensive Care Unit Venous Thromboembolism Prophylaxis | 0372

37. On page 41599, third column,

a. Third full paragraph, lines 4 and 5, the phrase “disparity measures” is corrected to read “disparity methods”.

b. Last paragraph, line 9, the phrase “disparity measures” is corrected to read “disparity methods”.

38. On page 41672, first column, fourth paragraph, lines 9 through 11, the phrase “Spring 2017 version of the CQM electronic specifications” is corrected to read “2018 eCQM specifications update (published in May 2018)”.

B. Correction of Errors in the Addendum

1. On page 41715, third column, fourth full paragraph, lines 3 and 8, the figure “0.997192” is corrected to read “0.997190”.

2. On page 41716—

a. First column, fourth full paragraph, line 9, the figure “1.000748” is corrected to read “1.000746”.

b. Second column, second full paragraph, line 11, the figure “0.985932” is corrected to read “0.985335”.

c. Third column, second full paragraph, line 3, the figure “0.993142” is corrected to read “0.993911”.

3. On page 41722—

a. Middle of the page, the untitled table is corrected to read as follows:

Quarter | Covered charges (April 1, 2016, through March 31, 2017) | Cases (April 1, 2016, through March 31, 2017) | Covered charges (April 1, 2017, through March 31, 2018) | Cases (April 1, 2017, through March 31, 2018)
April-June | $135,512,389,540 | 2,415,120 | $141,310,805,358 | 2,407,887
July-September | 132,339,957,018 | 2,356,775 | 136,951,808,593 | 2,319,109
October-December | 138,602,493,305 | 2,413,871 | 141,939,083,023 | 2,363,685
January-March | 150,230,629,335 | 2,559,371 | 120,924,791,134 | 1,983,155
Total | 556,685,469,198 | 9,745,137 | 541,126,488,108 | 9,073,836

b. Bottom of the page, first column,

i. First paragraph,

ii. Lines 5, the figures “$57,448 ($559,839,156,948/9,745,137)” are corrected to read “$57,124 ($556,685,469,198/9,745,137)”.

iii. Lines 9 through 10, the figures “$59,939.96 ($543,885,328,430/9,073,836)” are corrected to read “$59,636 ($541,126,488,108/9,073,836)”.

iv. Lines 13 through 14, the figures “4.3 percent (1.04338)” are corrected to read “4.4 percent (1.04396)”.

v. Line 14, the figures “8.9 percent (1.08864)” are corrected to read “9.0 percent (1.08986)”.

4. On page 41723, first column—

a. Third full paragraph—

i. Line 5, the figure “$25,769” is corrected to read “$25,743”.

ii. Line 7, the figure “$88,484,589,041” is corrected to read “$88,485,100,546”.

iii. Line 8, the figure “$4,755,375,555” is corrected to read “$4,755,311,111”.

iv. Lines 12 through 13, the parenthetical phrase “(($88,484,589,041/$93,239,964,596) × 100 = 5.1 percent)” is corrected to read “((1 − ($88,485,100,546/$93,240,411,657)) × 100 = 5.1 percent)”.

v. Last line, the figure “$25,769” is corrected to read “$25,743”.

c. Following the sixth full paragraph, the untitled table is corrected to read as follows:

| Operating standardized amounts | Capital Federal rate
National | 0.948999 | 0.949417

5. On pages 41724 through 41725, the table titled “CHANGES FROM FY 2018 STANDARDIZED AMOUNTS TO THE FY 2019 STANDARDIZED AMOUNTS”, is corrected to read as follows:

Changes From FY 2018 Standardized Amounts to the FY 2019 Standardized Amounts
| Hospital submitted quality data and is a meaningful EHR user | Hospital submitted quality data and is NOT a meaningful EHR user | Hospital did NOT submit quality data and is a meaningful EHR user | Hospital did NOT submit quality data and is NOT a meaningful EHR user
FY 2018 Base Rate after removing: 1. FY 2018 Geographic Reclassification Budget Neutrality (0.987985) 2. FY 2018 Operating Outlier Offset (0.948998) | If Wage Index is Greater Than 1.0000: Labor (68.3%): $4,059.36 Nonlabor (30.4%): $1,884.07 | If Wage Index is Greater Than 1.0000: Labor (68.3%): $4,059.36 Nonlabor (30.4%): $1,884.07 | If Wage Index is Greater Than 1.0000: Labor (68.3%): $4,059.36 Nonlabor (30.4%): $1,884.07 | If Wage Index is Greater Than 1.0000: Labor (68.3%): $4,059.36. Nonlabor (30.4%): $1,884.07.
| If Wage Index is less Than or Equal to 1.0000: Labor (62%): $3,684.92 Nonlabor (38%): $2,258.50 | If Wage Index is less Than or Equal to 1.0000: Labor (62%): $3,684.92 Nonlabor (38%): $2,258.50 | If Wage Index is less Than or Equal to 1.0000: Labor (62%): $3,684.92 Nonlabor (38%): $2,258.50 | If Wage Index is less Than or Equal to 1.0000: Labor (62%): $3,684.92. Nonlabor (38%): $2,258.50.
FY 2019 Update Factor | 1.0135 | 0.99175 | 1.00625 | 0.9845.
FY 2019 MS-DRG Recalibration Budget Neutrality Factor | 0.99719 | 0.99719 | 0.99719 | 0.99719.
FY 2019 Wage Index Budget Neutrality Factor | 1.000746 | 1.000746 | 1.000746 | 1.000746.
FY 2019 Reclassification Budget Neutrality Factor | 0.985335 | 0.985335 | 0.985335 | 0.985335.
FY 2019 Operating Outlier Factor | 0.948999 | 0.948999 | 0.948999 | 0.948999.
FY 2019 Rural Demonstration Budget Neutrality Factor | 0.999467 | 0.999467 | 0.999467 | 0.999467.
Adjustment for FY 2019 Required under Section 414 of Public Law 114-10 (MACRA) | 1.005 | 1.005 | 1.005 | 1.005.
National Standardized Amount for FY 2019 if Wage Index is Greater Than 1.0000; Labor/Non-Labor Share Percentage (68.3/31.7) | Labor: $3,856.27 Nonlabor: $1,789.81 | Labor: $3,773.51 Nonlabor: $1,751.40 | Labor: $3,828.68 Nonlabor: $1,777.01 | Labor: $3,745.93. Nonlabor: $1,738.60.
National Standardized Amount for FY 2019 if Wage Index is Less Than or Equal to 1.0000; Labor/Non-Labor Share Percentage (62/38) | Labor: $3,500.57 Nonlabor: $2,145.51 | Labor: $3,425.44 Nonlabor: $2,099.47 | Labor: $3,475.53 Nonlabor: $2,130.16 | Labor: $3,400.41. Nonlabor: $2,084.12.

6. On page 41727—

a. First column, second full paragraph, line 13, the figure “0.997192” is corrected to read, “0.997190”.

b. Second column, second full paragraph, line 6, the figure “1.27 percent” is corrected to read “1.20 percent”.

7. On page 41728, third column—

a. Second full paragraph, line 12, the figure “0.9986” is corrected to read “0.9980”.

b. Third full paragraph, line 14, the figure “0.9975” is corrected to read “0.9969”.

8. On page 41729—

a. Top of the page—

i. First column—

A. First full paragraph—

1. Line 2, the figure “0.9975” is corrected to read “0.9969”.

2. Line 4, the figure “0.9986” is corrected to read “0.9980”.

ii. Second column—

B. First full paragraph—

1. Line 8, the figure “$459.72” is corrected to read “$459.41”.

2. Line 17, the figure “0.9975” is corrected to read “0.9969”.

3. Third column, first paragraph—

a. Line 14, the figure “0.25” is corrected to read “0.31”.

b. Line 20, the figure “1.27” is corrected to read “1.20”.

b. Middle of page,

i. The table titled “COMPARISON OF FACTORS AND ADJUSTMENTS: FY 2018 CAPITAL FEDERAL RATE AND FY 2019 CAPITAL FEDERAL RATE” is corrected to read as follows:

Comparison of Factors and Adjustments: FY 2018 Capital Federal Rate and FY 2019 Capital Federal Rate
| FY 2018 | FY 2019 | Change | Percent change
Update Factor ¹ | 1.0130 | 1.0140 | 1.014 | 1.40
GAF/DRG Adjustment Factor ¹ | 0.9987 | 0.9969 | 0.9969 | −0.31
Outlier Adjustment Factor ² | 0.9483 | 0.9494 | 1.0012 | 0.12
Capital Federal Rate | $453.95 | $459.41 | 1.0120 | ³ 1.20
¹ The update factor and the GAF/DRG budget neutrality adjustment factors are built permanently into the capital Federal rates. Thus, for example, the incremental change from FY 2018 to FY 2019 resulting from the application of the 0.9969 GAF/DRG budget neutrality adjustment factor for FY 2019 is a net change of 0.9969 (or −0.31percent).
² The outlier reduction factor is not built permanently into the capital Federal rate; that is, the factor is not applied cumulatively in determining the capital Federal rate. Thus, for example, the net change resulting from the application of the FY 2019 outlier adjustment factor is 0.9494/0.9483 or 1.0012 (or 0.12 percent).
³ Percent change may not sum due to rounding.

ii. The table titled “COMPARISON OF FACTORS AND ADJUSTMENTS: PROPOSED FY 2019 CAPITAL FEDERAL RATE AND FINAL FY 2019 CAPITAL FEDERAL RATE” is corrected to read as follows:

Comparison of Factors and Adjustments: Proposed FY 2019 Capital Federal Rate and Final FY 2019 Capital Federal Rate
| Proposed FY 2019 | Final FY 2019 | Change | Percent change *
Update Factor | 1.0120 | 1.0140 | 1.0020 | 0.20
GAF/DRG Adjustment Factor | 0.9997 | 0.9969 | 0.9972 | −0.28
Outlier Adjustment Factor | 0.9494 | 0.9494 | 0.0000 | 0.00
Capital Federal Rate | $459.78 | $459.41 | 0.9992 | −0.0008
* Percent change may not sum due to rounding.

c. Bottom of page, second column, first partial paragraph, last line, the figure, “$25,769” is corrected to read “$25,743”.

9. On page 41730, third column, last paragraph, line 21, the figure “0.999713.” is corrected to read “0.999215”.

10. On page 41731, first column, first partial paragraph—

a. Line 3, the figure “0.990884” is corrected to read “0.990878”.

b. Lines 10 and 11, the mathematical phrase “$41,579.65 (calculated as $41,415.11 × 1.0135 × 0.999713× 0.990884)” is corrected to read “$41,558.68 (calculated as $41,415.11 × 1.0135 × 0.999215 × 0. 990878)”.

c. Lines 18 through 20, “$40,759.12 (calculated as $41,415.11 × 0.9935 × 0.999713× 0.990884)” is corrected to read “$40,738.57 (calculated as $41,415.11 × 0.9935 × 0.999215 × 0. 990878)”.

11. On page 41733, second column, last paragraph,

a. Line 6, the figure “0.999713” is corrected to read “0.999215”.

b. Line 11, the figure “0.999713” is corrected to read “0.999215“.

12. On page 41736, second column—

a. Third full paragraph—

i. Line 26, the figure, “$27,124” is corrected to read “$27,121”.

ii. Line 32, the figure, “$27,124” is corrected to read “$27,121”.

iii. Last line, the figure, “$27,124” is corrected to read “$27,121”.

b. Last partial paragraph, last line, the figure, “$27,124” is corrected to read “$27,121”.

13. On page 41737—

a. Second column, last paragraph, line 8, the figure, “$25,769” is corrected to read “$25,743”.

b. Third column—

i. First partial paragraph, last line, the figure, “$25,769” is corrected to read “$25,743”.

ii. Third full paragraph, line 3, the figure, “$25,769” is corrected to read “$25,743”.

14. On page 41738, third column, last paragraph, line 26, the figure “$41,579.65” is corrected to read “$41,558.68”.

15. On page 41739, top of page—

a. Second column, second partial paragraph, last line, the figure “$41,579.65” is corrected to read “$41,558.68”.

b. Third column, first partial paragraph, line 13, the parenthetical figure “($41,189.62)” is corrected to read “($41,190.33)”.

c. Untitled table, the table is corrected to read as follows:

Unadjusted LTCH PPS Standard Federal Prospective Payment Rate | $41,558.68
Labor-Related Share | × 0.660
Labor-Related Portion of the LTCH PPS Standard Federal Payment Rate | = $27,428.73
Wage Index (CBSA 16974) | 1.0511
Wage-Adjusted Labor Share of LTCH PPS Standard Federal Payment Rate | = $28,830.34
Nonlabor-Related Portion of the LTCH PPS Standard Federal Payment Rate ($41,558.68 x 0.340) | + $14,129.95
Adjusted LTCH PPS Standard Federal Payment Amount | = $42,960.29
MS-LTC-DRG 189 Relative Weight | × 0.9588
Total Adjusted LTCH PPS Standard Federal Prospective Payment | = $41,190.33

16. On page 41740, bottom of the page, the table titled “TABLE 1A— NATIONAL ADJUSTED OPERATING STANDARDIZED AMOUNTS, LABOR/NONLABOR [(68.3 percent labor share/31.7 percent nonlabor share if wage index is greater than 1)—FY 2019]” is corrected to read as follows:

Table 1A—National Adjusted Operating Standardized Amounts, Labor/Nonlabor
[(68.3 percent labor share/31.7 percent nonlabor share if wage index is greater than 1)—FY 2019]
Hospital submitted quality data and is a meaningful EHR user (update = 1.35 percent): Labor | Hospital submitted quality data and is a meaningful EHR user (update = 1.35 percent): Nonlabor | Hospital submitted quality data and is NOT a meaningful EHR user (update = −0.825 percent): Labor | Hospital submitted quality data and is NOT a meaningful EHR user (update = −0.825 percent): Nonlabor | Hospital did NOT submit quality data and is a meaningful EHR user (update = 0.625 percent): Labor | Hospital did NOT submit quality data and is a meaningful EHR user (update = 0.625 percent): Nonlabor | Hospital did NOT submit quality data and is NOT a meaningful EHR user (update = −1.55 percent): Labor | Hospital did NOT submit quality data and is NOT a meaningful EHR user (update = −1.55 percent): Nonlabor
$3,856.27 | $1,789.81 | $3,773.51 | $1,751.40 | $3,828.68 | $1,777.01 | $3,745.93 | $1,738.60

17. On page 41741—

a. Top of the page—

i. The table titled “TABLE 1B—NATIONAL ADJUSTED OPERATING STANDARDIZED AMOUNTS, LABOR/NONLABOR [(62 percent labor share/38 percent nonlabor share if wage index is less than or equal to 1)—FY 2019]” is corrected to read as follows:

Table 1B—National Adjusted Operating Standardized Amounts, Labor/Nonlabor
[(62 percent labor share/38 percent nonlabor share if wage index is less than or equal to 1)—FY 2019]
Hospital submitted quality data and is a meaningful EHR user (update = 1.35 percent): Labor | Hospital submitted quality data and is a meaningful EHR user (update = 1.35 percent): Nonlabor | Hospital submitted quality data and is NOT a meaningful EHR user (update = −0.825 percent): Labor | Hospital submitted quality data and is NOT a meaningful EHR user (update = −0.825 percent): Nonlabor | Hospital did NOT submit quality data and is a meaningful EHR user (update = 0.625 percent): Labor | Hospital did NOT submit quality data and is a meaningful EHR user (update = 0.625 percent): Nonlabor | Hospital did NOT submit quality data and is NOT a meaningful EHR user (update = −1.55 percent): Labor | Hospital did NOT submit quality data and is NOT a meaningful EHR user (update = −1.55 percent): Nonlabor
$3,500.57 | $2,145.51 | $3,425.44 | $2,099.47 | $3,475.53 | $3,475.53 | $3,400.41 | $2,084.12

ii. The table titled “Table 1C—ADJUSTED OPERATING STANDARDIZED AMOUNTS FOR HOSPITALS IN PUERTO RICO, LABOR/NONLABOR [(National: 62 percent labor share/38 percent nonlabor share because wage index is less than or equal to 1)—FY 2019]” is corrected to read as follows:

Table 1C—Adjusted Operating Standardized Amounts for Hospitals in Puerto Rico, Labor/Nonlabor
[(National: 62 percent labor share/38 percent nonlabor share because wage index is less than or equal to 1)—FY 2019]
Standardized amount | Rates if wage index is greater than 1: Labor | Rates if wage index is greater than 1: Nonlabor | Rates if wage index is less than or equal to 1: Labor | Rates if wage index is less than or equal to 1: Nonlabor
National ¹ | Not Applicable | Not Applicable | $3,500.57 | $2,145.51
¹ For FY 2019, there are no CBSAs in Puerto Rico with a national wage index greater than 1.

b. Middle of the page—

i. The table titled “Table 1D—CAPITAL STANDARD FEDERAL PAYMENT RATE [FY 2019]” is corrected to read as follows:

Table 1D—Capital Standard Federal Payment Rate
[FY 2019]
| Rate
National | $459.41

ii. The table titled “Table 1E—LTCH PPS STANDARD FEDERAL PAYMENT RATE [FY 2019]” is corrected to read as follows:

Table 1E—LTCH PPS Standard Federal Payment Rate
[FY 2019]
| Full update (1.35 percent) | Reduced update * (−0.65 Percent)
Standard Federal Rate | $41,558.68 | $40,738.57
* For LTCHs that fail to submit quality reporting data for FY 2019 in accordance with the LTCH Quality Reporting Program (LTCH QRP), the annual update is reduced by 2.0 percentage points as required by section 1886(m)(5) of the Act.

C. Corrections of Errors in the Appendices

1. On page 41742—

a. Second column, second full paragraph—

i. Line 1, the figure “3,256” is corrected to read “3,255”.

ii. Line 7, the figure “1,398” is corrected to read “1,399”.

2. On pages 41744 through 41746, the table and table notes for the table titled “TABLE I—IMPACT ANALYSIS OF CHANGES TO THE IPPS FOR OPERATING COSTS FOR FY 2019” are corrected to read as follows:

TABLE I—Impact Analysis of Changes to the IPPS for Operating Costs for FY 2019
| Number of hospitals ¹ | Hospital rate update and adjustment under MACRA | FY 2019 weights and DRG changes with application of recalibration budget neutrality | FY 2019 wage data with application of wage budget neutrality | FY 2019 MGCRB reclassifications | Rural floor with application of national rural floor budget neutrality | Application of the frontier wage index and outmigration adjustment | All FY 2019 changes
| (1) ² | (2) ³ | (3) ⁴ | (4) ⁵ | (5) ⁶ | (6) ⁷ | (7) ⁸
All Hospitals | 3,255 | 1.8 | 0 | 0 | 0 | 0 | 0.1 | 2.4
By Geographic Location:
Urban hospitals | 2,483 | 1.8 | 0 | 0 | −0.1 | 0 | 0.1 | 2.5
Large urban areas | 1,302 | 1.8 | 0.1 | 0 | −0.8 | 0 | 0 | 2.4
Other urban areas | 1,181 | 1.8 | 0 | 0 | 0.6 | 0 | 0.2 | 2.5
Rural hospitals | 772 | 1.5 | −0.3 | −0.1 | 1.2 | −0.1 | 0.1 | 1.2
Bed Size (Urban):
0-99 beds | 644 | 1.7 | −0.5 | 0.1 | −0.8 | 0.2 | 0.2 | 1.7
100-199 beds | 763 | 1.8 | 0 | 0 | −0.1 | 0.2 | 0.2 | 2.2
200-299 beds | 433 | 1.8 | 0 | 0 | 0.1 | 0 | 0.1 | 2.3
300-499 beds | 424 | 1.8 | 0.1 | 0 | 0 | −0.1 | 0.1 | 2.5
500 or more beds | 219 | 1.8 | 0.1 | 0 | −0.2 | 0 | 0 | 2.9
Bed Size (Rural):
0-49 beds | 305 | 1.4 | −0.5 | 0 | 0.2 | −0.1 | 0.2 | 0.9
50-99 beds | 274 | 1.3 | −0.4 | 0 | 0.7 | −0.1 | 0.2 | 1.1
100-149 beds | 108 | 1.6 | −0.5 | −0.1 | 0.9 | −0.1 | 0 | 1.2
150-199 beds | 45 | 1.7 | −0.1 | −0.2 | 2 | −0.2 | 0.3 | 1.4
200 or more beds | 40 | 1.7 | 0.1 | −0.2 | 2.3 | −0.2 | 0 | 1.5
Urban by Region:
New England | 113 | 1.8 | 0.1 | −0.5 | 2.7 | 2.4 | 0.1 | 4.7
Middle Atlantic | 310 | 1.8 | 0.2 | 0 | 0.2 | −0.3 | 0.1 | 2.3
South Atlantic | 401 | 1.8 | 0 | −0.1 | −0.6 | −0.3 | 0 | 2
East North Central | 386 | 1.8 | 0.1 | −0.2 | −0.5 | −0.3 | 0.1 | 2
East South Central | 147 | 1.8 | 0 | 0 | −0.5 | −0.3 | 0 | 2.1
West North Central | 158 | 1.8 | −0.1 | 0 | −0.9 | −0.3 | 0.6 | 2.1
West South Central | 379 | 1.8 | 0 | 0.2 | −0.8 | −0.3 | 0 | 2.3
Mountain | 164 | 1.7 | −0.1 | −0.7 | 0.4 | 0.6 | 0.3 | 2.2
Pacific | 374 | 1.8 | −0.1 | 0.8 | 0.1 | 0.2 | 0.1 | 3.3
Puerto Rico | 51 | 1.8 | 0 | −1.2 | −1.3 | 0.1 | 0.1 | 0.7
Rural by Region:
New England | 20 | 1.5 | 0.1 | −0.5 | 1.5 | −0.2 | 0 | 0.9
Middle Atlantic | 53 | 1.5 | −0.2 | −0.1 | 0.6 | −0.1 | 0.1 | 1.4
South Atlantic | 122 | 1.6 | −0.2 | −0.2 | 1.7 | −0.1 | 0.1 | 1.2
East North Central | 114 | 1.5 | −0.3 | 0.1 | 0.9 | −0.1 | 0 | 1.1
East South Central | 150 | 1.7 | −0.1 | −0.2 | 2.5 | −0.3 | 0.1 | 1.8
West North Central | 94 | 1.3 | −0.5 | 0 | 0.1 | 0 | 0.2 | 0.9
West South Central | 145 | 1.5 | −0.3 | 0.2 | 1.3 | −0.3 | 0.2 | 1.5
Mountain | 51 | 1.3 | −1.1 | −0.4 | −0.1 | −0.1 | 0.8 | 0.8
Pacific | 23 | 1.4 | −0.4 | −0.2 | 0.8 | −0.1 | 0 | 1
By Payment Classification:
Urban hospitals | 2,264 | 1.8 | 0 | 0 | −0.6 | 0.1 | 0.1 | 2.3
Large urban areas | 1,317 | 1.8 | 0.1 | 0 | −0.7 | 0 | 0 | 2.4
Other urban areas | 947 | 1.8 | 0 | 0 | −0.4 | 0.2 | 0.2 | 2.1
Rural areas | 991 | 1.7 | −0.1 | 0 | 2.1 | −0.2 | 0.1 | 2.7
Teaching Status:
Nonteaching | 2,156 | 1.7 | −0.1 | 0 | 0.1 | 0.1 | 0.1 | 2.1
Fewer than 100 residents | 849 | 1.8 | 0 | 0 | −0.2 | −0.1 | 0.2 | 2.2
100 or more residents | 250 | 1.8 | 0.2 | 0 | 0.1 | −0.1 | 0 | 3.1
Urban DSH:
Non-DSH | 520 | 1.8 | −0.3 | −0.2 | −0.2 | −0.1 | 0.2 | 2
100 or more beds | 1,462 | 1.8 | 0.1 | 0 | −0.6 | 0.1 | 0.1 | 2.3
Less than 100 beds | 367 | 1.7 | −0.2 | 0.3 | −0.6 | 0.2 | 0.1 | 1.9
Rural DSH:
SCH | 255 | 1.2 | −0.6 | −0.1 | 0 | 0 | 0 | 0.7
RRC | 382 | 1.7 | 0 | 0.1 | 2.4 | −0.3 | 0.1 | 3.1
100 or more beds | 33 | 1.8 | 0 | −0.6 | 1.6 | −0.4 | 0.1 | 2.9
Less than 100 beds | 236 | 1.6 | −0.3 | 0 | 0.7 | −0.2 | 0.3 | 1.5
Urban teaching and DSH:
Both teaching and DSH | 805 | 1.8 | 0.1 | 0 | −0.7 | 0 | 0.1 | 2.4
Teaching and no DSH | 89 | 1.9 | −0.1 | −0.1 | −0.5 | −0.1 | 0 | 2.3
No teaching and DSH | 1,024 | 1.8 | 0 | 0.1 | −0.4 | 0.3 | 0.1 | 2.2
No teaching and no DSH | 346 | 1.8 | −0.3 | −0.2 | −0.6 | −0.1 | 0.2 | 1.7
Special Hospital Types:
RRC | 327 | 1.8 | 0 | 0.2 | 2.7 | −0.3 | 0.2 | 3.4
SCH | 311 | 1.1 | −0.5 | 0.1 | −0.1 | 0 | 0 | 0.8
MDH | 140 | 1.5 | −0.5 | −0.1 | 0.7 | 0 | 0 | 1.2
SCH and RRC | 134 | 1.4 | −0.2 | −0.2 | 0.3 | 0 | 0.1 | 1.2
MDH and RRC | 16 | 1.5 | −0.4 | 0 | 0.8 | −0.1 | 0 | 1.1
Type of Ownership:
Voluntary | 1,898 | 1.8 | 0 | 0 | 0.1 | 0 | 0.1 | 2.4
Proprietary | 856 | 1.8 | 0 | −0.1 | −0.1 | 0 | 0.1 | 2.1
Government | 501 | 1.7 | 0 | 0.2 | −0.2 | −0.1 | 0 | 2.5
Medicare Utilization as a Percent of Inpatient Days:
0-25 | 602 | 1.8 | 0.1 | −0.1 | −0.4 | −0.1 | 0 | 2.3
25-50 | 2,138 | 1.8 | 0 | 0 | 0 | 0 | 0.1 | 2.5
50-65 | 421 | 1.7 | −0.2 | −0.1 | 0.5 | 0.3 | 0.1 | 1.7
Over 65 | 73 | 1.1 | 0.5 | −0.1 | −0.4 | −0.2 | 0.1 | 2.5
FY 2019 Reclassifications by the Medicare Geographic Classification Review Board:
All Reclassified Hospitals | 859 | 1.8 | 0 | 0.1 | 2.4 | −0.3 | 0 | 2.8
Non-Reclassified Hospitals | 2,396 | 1.8 | 0 | 0 | −1.1 | 0.1 | 0.1 | 2.2
Urban Hospitals Reclassified | 588 | 1.8 | 0 | 0.1 | 2.5 | −0.3 | 0 | 3.1
Urban Non-reclassified Hospitals | 1,835 | 1.8 | 0 | 0 | −1.2 | 0.1 | 0.1 | 2.3
Rural Hospitals Reclassified Full Year | 271 | 1.5 | −0.2 | −0.1 | 2.1 | −0.2 | 0.1 | 1.5
Rural Non-reclassified Hospitals Full Year | 454 | 1.4 | −0.5 | −0.1 | −0.4 | −0.1 | 0.2 | 0.8
All Section 401 Reclassified Hospitals | 266 | 1.7 | 0 | 0.1 | 2.5 | −0.3 | 0.1 | 3.4
Other Reclassified Hospitals (Section 1886(d)(8)(B)) | 47 | 1.7 | −0.2 | −0.1 | 2.8 | −0.3 | 0 | 1.5
¹ Because data necessary to classify some hospitals by category were missing, the total number of hospitals in each category may not equal the national total. Discharge data are from FY 2017, and hospital cost report data are from reporting periods beginning in FY 2016 and FY 2015.
² This column displays the payment impact of the hospital rate update and other adjustments, including the 1.35 percent adjustment to the national standardized amount and the hospital-specific rate (the estimated 2.9 percent market basket update reduced by 0.8 percentage point for the multifactor productivity adjustment and the 0.75 percentage point reduction under the Affordable Care Act), and the 0.5 percent adjustment to the national standardized amount required under section 414 of the MACRA.
³ This column displays the payment impact of the changes to the Version 36 GROUPER, the changes to the relative weights and the recalibration of the MS-DRG weights based on FY 2017 MedPAR data in accordance with section 1886(d)(4)(C)(iii) of the Act. This column displays the application of the recalibration budget neutrality factor of 0.997190 in accordance with section 1886(d)(4)(C)(iii) of the Act.
⁴ This column displays the payment impact of the update to wage index data using FY 2015 cost report data and the OMB labor market area delineations based on 2010 Decennial Census data. This column displays the payment impact of the application of the wage budget neutrality factor, which is calculated separately from the recalibration budget neutrality factor, and is calculated in accordance with section 1886(d)(3)(E)(i) of the Act. The wage budget neutrality factor is 1.000746.
⁵ Shown here are the effects of geographic reclassifications by the Medicare Geographic Classification Review Board (MGCRB). The effects demonstrate the FY 2019 payment impact of going from no reclassifications to the reclassifications scheduled to be in effect for FY 2019. Reclassification for prior years has no bearing on the payment impacts shown here. This column reflects the geographic budget neutrality factor of 0.985335.
⁶ This column displays the effects of the rural floor and expiration of the imputed floor. The Affordable Care Act requires the rural floor budget neutrality adjustment to be 100 percent national level adjustment. The rural floor budget neutrality factor applied to the wage index is 0.993911.
⁷ This column shows the combined impact of the policy required under section 10324 of the Affordable Care Act that hospitals located in frontier States have a wage index no less than 1.0 and of section 1886(d)(13) of the Act, as added by section 505 of Public Law 108-173, which provides for an increase in a hospital's wage index if a threshold percentage of residents of the county where the hospital is located commute to work at hospitals in counties with higher wage indexes. These are not budget neutral policies.
⁸ This column shows the estimated change in payments from FY 2018 to FY 2019.

3. On page 41746, lower half of page, second column, third paragraph, line 6, the figure “0.997192” is corrected to read “0.997190”.

4. On page 41747—

a. Top half of page, second column, first partial paragraph, line 19, the figure “1.000748” is corrected to read “1.000746”.

b. Lower half of page, third column, first partial paragraph—

i. First line, the figure “0.985932” is corrected to read “0.985335”.

ii. Line 11, “which will experience no change” is corrected to read, “which will experience a 0.1 percent decrease”.

5. On page 41748, top of page—

a. First column, second full paragraph—

i. Line 6, the figure “0.993142” is corrected to read “0.993911”.

ii. Line 7, the figure “0.69 percent” is corrected to read “0.61 percent”.

b. Second column, first full paragraph—

i. Line 1, the figure “263” is corrected to read “253”.

ii. Line 5, the figure “0.993142” is corrected to read “0.993911”.

iii. Line 7, the figure “0.2” is corrected to read “0.1”.

iv. Line 22, the figure “2.5” is corrected to read “2.4”.

v. Line 30, the figure “$121 million” is corrected to read “$123 million”.

6. On pages 41748 and 41749, the table titled “FY 2019 IPPS ESTIMATED PAYMENTS DUE TO RURAL FLOOR WITH NATIONAL BUDGET NEUTRALITY” is corrected to read as follows:

FY 2019 IPPS Estimated Payments Due to Rural Floor With National Budget Neutrality
State | Number of hospitals | Number of hospitals that would receive the rural floor | Percent change in payments due to application of rural floor with budget neutrality | Difference (in $ millions)
| (1) | (2) | (3) | (4)
Alabama | 84 | 2 | −0.3 | $−5
Alaska | 6 | 3 | 0.1 | 0
Arizona | 56 | 33 | 1.3 | 26
Arkansas | 45 | 0 | −0.3 | −3
California | 297 | 59 | 0.4 | 42
Colorado | 45 | 9 | 0.7 | 9
Connecticut | 30 | 8 | 1.3 | 21
Delaware | 6 | 0 | −0.3 | −2
Washington, DC | 7 | 0 | −0.3 | −2
Florida | 168 | 7 | −0.3 | −20
Georgia | 101 | 0 | −0.3 | −8
Hawaii | 12 | 6 | −0.1 | 0
Idaho | 14 | 0 | −0.3 | −1
Illinois | 125 | 2 | −0.3 | −14
Indiana | 85 | 0 | −0.3 | −7
Iowa | 34 | 0 | −0.3 | −3
Kansas | 51 | 0 | −0.2 | −2
Kentucky | 64 | 0 | −0.3 | −5
Louisiana | 90 | 0 | −0.3 | −5
Maine | 17 | 0 | −0.3 | −2
Massachusetts | 56 | 29 | 3.3 | 123
Michigan | 94 | 0 | −0.3 | −14
Minnesota | 49 | 0 | −0.2 | −6
Mississippi | 59 | 0 | −0.3 | −3
Missouri | 72 | 0 | −0.2 | −6
Montana | 13 | 1 | −0.2 | −1
Nebraska | 23 | 0 | −0.3 | −2
Nevada | 22 | 3 | 0.4 | 3
New Hampshire | 13 | 8 | 2.4 | 14
New Jersey | 64 | 0 | −0.4 | −16
New Mexico | 24 | 2 | −0.2 | −1
New York | 149 | 16 | −0.3 | −21
North Carolina | 84 | 0 | −0.3 | −9
North Dakota | 6 | 3 | 0.4 | 1
Ohio | 130 | 7 | −0.3 | −11
Oklahoma | 79 | 2 | −0.3 | −4
Oregon | 34 | 1 | −0.2 | −2
Pennsylvania | 150 | 3 | −0.3 | −17
Puerto Rico | 51 | 11 | 0.1 | 0
Rhode Island | 11 | 0 | −0.4 | −1
South Carolina | 54 | 6 | −0.1 | −1
South Dakota | 17 | 0 | −0.2 | −1
Tennessee | 90 | 6 | −0.3 | −7
Texas | 310 | 13 | −0.3 | −18
Utah | 31 | 0 | −0.3 | −2
Vermont | 6 | 0 | −0.2 | 0
Virginia | 74 | 1 | −0.2 | −6
Washington | 48 | 3 | −0.3 | −7
West Virginia | 29 | 2 | −0.2 | −1
Wisconsin | 66 | 5 | −0.3 | −5
Wyoming | 10 | 2 | 0 | 0

7. On pages 41750 and 41751, the table titled “TABLE II—IMPACT ANALYSIS OF CHANGES FOR FY 2019 ACUTE CARE HOSPITAL OPERATING PROSPECTIVE PAYMENT SYSTEM [Payments per discharge]” is corrected to read as follows:

Table II—Impact Analysis of Changes for FY 2019 Acute Care Hospital Operating Prospective Payment System
[Payments per discharge]
| Number of hospitals | Estimated average FY 2018 payment per discharge | Estimated average FY 2019 payment per discharge | FY 2019 changes
| (1) | (2) | (3) | (4)
All Hospitals | 3,255 | 12,172 | 12,463 | 2.4
By Geographic Location:
Urban hospitals | 2,483 | 12,508 | 12,819 | 2.5
Large urban areas | 1,302 | 12,986 | 13,302 | 2.4
Other urban areas | 1,181 | 12,049 | 12,355 | 2.5
Rural hospitals | 772 | 9,193 | 9,307 | 1.2
Bed Size (Urban):
0-99 beds | 644 | 9,945 | 10,113 | 1.7
100-199 beds | 763 | 10,399 | 10,623 | 2.2
200-299 beds | 433 | 11,384 | 11,650 | 2.3
300-499 beds | 424 | 12,606 | 12,917 | 2.5
500 or more beds | 219 | 15,449 | 15,893 | 2.9
Bed Size (Rural):
0-49 beds | 305 | 7,826 | 7,897 | 0.9
50-99 beds | 274 | 8,746 | 8,843 | 1.1
100-149 beds | 108 | 9,150 | 9,256 | 1.2
150-199 beds | 45 | 9,667 | 9,805 | 1.4
200 or more beds | 40 | 10,734 | 10,899 | 1.5
Urban by Region:
New England | 113 | 13,491 | 14,131 | 4.7
Middle Atlantic | 310 | 14,099 | 14,429 | 2.3
South Atlantic | 401 | 11,145 | 11,372 | 2
East North Central | 386 | 11,830 | 12,072 | 2
East South Central | 147 | 10,517 | 10,742 | 2.1
West North Central | 158 | 12,266 | 12,524 | 2.1
West South Central | 379 | 11,310 | 11,574 | 2.3
Mountain | 164 | 12,938 | 13,218 | 2.2
Pacific | 374 | 15,773 | 16,289 | 3.3
Puerto Rico | 51 | 9,117 | 9,185 | 0.7
Rural by Region:
New England | 20 | 12,613 | 12,728 | 0.9
Middle Atlantic | 53 | 9,137 | 9,265 | 1.4
South Atlantic | 122 | 8,497 | 8,598 | 1.2
East North Central | 114 | 9,444 | 9,551 | 1.1
East South Central | 150 | 8,142 | 8,285 | 1.8
West North Central | 94 | 10,019 | 10,112 | 0.9
West South Central | 145 | 7,844 | 7,958 | 1.5
Mountain | 51 | 11,139 | 11,226 | 0.8
Pacific | 23 | 12,734 | 12,858 | 1
By Payment Classification:
Urban hospitals | 2,264 | 12,276 | 12,557 | 2.3
Large urban areas | 1,317 | 12,974 | 13,290 | 2.4
Other urban areas | 947 | 11,325 | 11,559 | 2.1
Rural areas | 991 | 11,833 | 12,155 | 2.7
Teaching Status:
Nonteaching | 2,156 | 10,059 | 10,267 | 2.1
Fewer than 100 residents | 849 | 11,616 | 11,866 | 2.2
100 or more residents | 250 | 17,680 | 18,220 | 3.1
Urban DSH:
Non-DSH | 520 | 10,533 | 10,748 | 2
100 or more beds | 1,462 | 12,643 | 12,939 | 2.3
Less than 100 beds | 367 | 9,220 | 9,397 | 1.9
Rural DSH:
SCH | 255 | 10,239 | 10,313 | 0.7
RRC | 382 | 12,516 | 12,901 | 3.1
100 or more beds | 33 | 13,322 | 13,711 | 2.9
Less than 100 beds | 236 | 7,300 | 7,410 | 1.5
Urban teaching and DSH:
Both teaching and DSH | 805 | 13,783 | 14,112 | 2.4
Teaching and no DSH | 89 | 11,402 | 11,664 | 2.3
No teaching and DSH | 1,024 | 10,322 | 10,549 | 2.2
No teaching and no DSH | 346 | 9,951 | 10,125 | 1.7
Special Hospital Types:
RRC | 327 | 12,440 | 12,863 | 3.4
SCH | 311 | 11,126 | 11,219 | 0.8
MDH | 140 | 7,958 | 8,056 | 1.2
SCH and RRC | 134 | 11,502 | 11,640 | 1.2
MDH and RRC | 16 | 10,039 | 10,149 | 1.1
Type of Ownership:
Voluntary | 1,898 | 12,323 | 12,624 | 2.4
Proprietary | 856 | 10,658 | 10,879 | 2.1
Government | 501 | 13,378 | 13,708 | 2.5
Medicare Utilization as a Percent of Inpatient Days:
0-25 | 602 | 14,927 | 15,266 | 2.3
25-50 | 2,138 | 11,996 | 12,294 | 2.5
50-65 | 421 | 9,817 | 9,985 | 1.7
Over 65 | 73 | 7,271 | 7,450 | 2.5
FY 2019 Reclassifications by the Medicare Geographic Classification Review Board:
All Reclassified Hospitals | 859 | 12,226 | 12,572 | 2.8
Non-Reclassified Hospitals | 2,396 | 12,148 | 12,415 | 2.2
Urban Hospitals Reclassified | 588 | 12,821 | 13,212 | 3.1
Urban Nonreclassified Hospitals | 1,835 | 12,349 | 12,629 | 2.3
Rural Hospitals Reclassified Full Year | 271 | 9,566 | 9,710 | 1.5
Rural Nonreclassified Hospitals Full Year | 454 | 8,750 | 8,821 | 0.8
All Section 401 Reclassified Hospitals | 266 | 13,625 | 14,091 | 3.4
Other Reclassified Hospitals (Section 1886(d)(8)(B)) | 47 | 8,609 | 8,736 | 1.5

8. On pages 41753 through 41754 the table titled “MODELED UNCOMPENSATED CARE PAYMENTS FOR ESTIMATED FY 2019 DSHs BY HOSPITAL TYPE: MODEL UCP $ (IN MILLIONS) * FROM FY 2018 to FY 2019” is corrected to read as follows:

Modeled Uncompensated Care Payments for Estimated FY 2019 DSHs by Hospital Type: Model UCP $ (in Millions) * From FY 2018 to FY 2019
| Number of estimated DSHs | FY 2018 final rule CN estimated UCP $ (in millions) | FY 2019 final rule estimated UCP $ (in millions) | Dollar difference: FY 2019- FY 2018 (in millions) | Percent change **
| (1) | (2) | (3) | (4) | (5)
Total | 2,447 | $6,767 | $8,273 | $1,506 | 22.26
By Geographic Location:
Urban Hospitals | 1,953 | 6,422 | 7,802 | 1,380 | 21.49
Large Urban Areas | 1,046 | 3,847 | 4,706 | 859 | 22.33
Other Urban Areas | 907 | 2,575 | 3,096 | 521 | 20.22
Rural Hospitals | 494 | 345 | 471 | 126 | 36.64
Bed Size (Urban):
0 to 99 Beds | 342 | 177 | 257 | 79 | 44.80
100 to 249 Beds | 860 | 1,519 | 1,903 | 384 | 25.28
250+ Beds | 751 | 4,726 | 5,642 | 916 | 19.39
Bed Size (Rural):
0 to 99 Beds | 365 | 164 | 229 | 64 | 39.19
100 to 249 Beds | 116 | 146 | 200 | 54 | 36.66
250+ Beds | 13 | 34 | 43 | 8 | 24.33
Urban by Region:
New England | 91 | 259 | 279 | 20 | 7.76
Middle Atlantic | 244 | 1,004 | 1,058 | 55 | 5.45
South Atlantic | 320 | 1,343 | 1,769 | 426 | 31.69
East North Central | 323 | 864 | 1,010 | 146 | 16.92
East South Central | 133 | 389 | 477 | 88 | 22.71
West North Central | 104 | 312 | 386 | 74 | 23.68
West South Central | 254 | 981 | 1,423 | 442 | 45.03
Mountain | 125 | 313 | 397 | 84 | 26.78
Pacific | 318 | 874 | 899 | 25 | 2.88
Puerto Rico | 41 | 82 | 102 | 20 | 24.47
Rural by Region:
New England | 9 | 14 | 17 | 3 | 19.24
Middle Atlantic | 26 | 19 | 22 | 2 | 12.43
South Atlantic | 88 | 79 | 116 | 37 | 47.54
East North Central | 69 | 40 | 56 | 16 | 41.12
East South Central | 135 | 93 | 106 | 13 | 13.78
West North Central | 29 | 16 | 22 | 6 | 40.28
West South Central | 106 | 66 | 102 | 36 | 53.62
Mountain | 27 | 14 | 26 | 12 | 84.16
Pacific | 5 | 4 | 5 | 1 | 24.85
By Payment Classification:
Urban Hospitals | 1,866 | 5,917 | 7,257 | 1,340 | 22.65
Large Urban Areas | 1,058 | 3,855 | 4,717 | 862 | 22.37
Other Urban Areas | 808 | 2,062 | 2,540 | 478 | 23.16
Rural Hospitals | 581 | 850 | 1,016 | 166 | 19.54
Teaching Status:
Nonteaching | 1,509 | 2,020 | 2,597 | 578 | 28.62
Fewer than 100 residents | 694 | 2,246 | 2,744 | 498 | 22.17
100 or more residents | 244 | 2,501 | 2,931 | 430 | 17.20
Type of Ownership:
Voluntary | 1,447 | 4,137 | 4,895 | 758 | 18.32
Proprietary | 561 | 1,015 | 1,259 | 244 | 24.05
Government | 439 | 1,615 | 2,119 | 504 | 31.24
Medicare Utilization Percent: ***
0 to 25 | 472 | 2,255 | 2,720 | 464 | 20.60
25 to 50 | 1,674 | 4,290 | 5,266 | 977 | 22.77
50 to 65 | 262 | 215 | 276 | 61 | 28.34
Greater than 65 | 36 | 7 | 11 | 4 | 56.55
Source: Dobson | DaVanzo analysis of 2013-2015 Hospital Cost Reports.
* Dollar UCP calculated by [0.75 * estimated section 1886(d)(5)(F) payments * Factor 2 * Factor 3]. When summed across all hospitals projected to receive DSH payments, uncompensated care payments are estimated to be $6,767 million in FY 2018 and $8,273 million in FY 2019.
** Percentage change is determined as the difference between Medicare UCP payments modeled for the FY 2019 IPPS/LTCH PPS proposed rule (column 3) and Medicare UCP payments modeled for the FY 2018 IPPS/LTCH PPS final rule correction notice (column 2) divided by Medicare UCP payments modeled for the FY 2018 final rule correction notice (column 2) times 100 percent.
*** Hospitals with Missing or Unknown Medicare Utilization are not shown in table.

9. On page 41754,

a. Second column, first full paragraph,

i. Line 5, the figure “36.66” is corrected to read “36.64”.

ii. Line 8, the figure “21.48” is corrected to read “21.49”.

b. Third column, first partial paragraph,

i. Line 2, the figure “39.52” is corrected to read “39.19”.

ii. Line 5, the figure “36.35” is corrected to read “36.66”

iii. Line 7, the figure “24.35” is corrected to read “24.33”.

iv. Line 13, the figure “44.83” is corrected to read “44.80”.

v. Line 16, the figure “25.23” is corrected to read “25.28”.

vi. Line 19, the figure “19.40” is corrected to read “19.39”.

10. On page 41755, first column, second paragraph—

a. Line 5, the figure “22.14” is corrected to read “22.17”.

b. Line 9, the figure “17.23” is corrected to read “17.20”.

c. Line 12, the figure “31.26” is corrected to read “31.24”.

d. Line 12, the figure “24.06” is corrected to read “24.05”.

e. Line 15, the figure “18.30” is corrected to read “18.32”.

11. On page 41756, bottom of the page—

a. First column, before the first paragraph, the section heading “a. Effects of Proposed Changes for FY 2019” is corrected to read “a. Effects of Changes for FY 2019”.

b. Second column, last paragraph, line 1, the phrase “The proposed estimated impacts” is corrected to read “The estimated impacts”.

12. On pages 41758 through 41759, the table titled “ESTIMATED PROPORTION OF HOSPITALS IN THE WORST-PERFORMING QUARTILE (>75th PERCENTILE) OF THE TOTAL HAC SCORES FOR THE FY 2019 HAC REDUCTION PROGRAM” is corrected to read as follows:

Estimated Proportion of Hospitals in the Worst-Performing Quartile (>75th Percentile) of the Total HAC Scores for the FY 2019 HAC Reduction Program
[By hospital characteristic]
Hospital characteristic | Number of hospitals | Number of hospitals in the worst- performing quartile ᵃ | Percent of hospitals in the worst- performing quartile ᵇ
Total ᶜ | 3,219 | 804 | 25.0
By Geographic Location (n = 3,201): ᵈ
Urban hospitals | 2,416 | 628 | 26.0
1-99 beds | 622 | 133 | 21.4
100-199 beds | 728 | 182 | 25.0
200-299 beds | 430 | 119 | 27.7
300-399 beds | 278 | 80 | 28.8
400-499 beds | 145 | 39 | 26.9
500 or more beds | 213 | 75 | 35.2
Rural hospitals | 785 | 165 | 21.0
1-49 beds | 304 | 68 | 22.4
50-99 beds | 282 | 56 | 19.9
100-149 beds | 116 | 22 | 19.0
150-199 beds | 44 | 10 | 22.7
200 or more beds | 39 | 9 | 23.1
By Safety-Net Status (n = 3,201): ᵉ
Non-safety net | 2,555 | 576 | 22.5
Safety-net | 646 | 217 | 33.6
By DSH Percent (n = 3,201): ᶠ
0-24 | 1,313 | 292 | 22.2
25-49 | 1,507 | 366 | 24.3
50-64 | 198 | 75 | 37.9
65 and over | 183 | 60 | 32.8
By Teaching Status (n = 3,201): ᵍ
Non-teaching | 2,121 | 484 | 22.8
Fewer than 100 residents | 832 | 196 | 23.6
100 or more residents | 248 | 113 | 45.6
By Ownership (n = 3,173):
Voluntary | 1,868 | 466 | 24.9
Proprietary | 813 | 175 | 21.5
Government | 492 | 145 | 29.5
By MCR Percent (n = 3,175): ʰ
0-24 | 511 | 144 | 28.2
25-49 | 2,118 | 505 | 23.8
50-64 | 473 | 117 | 24.7
65 and over | 73 | 15 | 20.5
By Region (n = 3,217): ⁱ
New England | 133 | 43 | 32.3
Mid-Atlantic | 364 | 101 | 27.7
South Atlantic | 522 | 133 | 25.5
East North Central | 498 | 108 | 21.7
East South Central | 299 | 68 | 22.7
West North Central | 256 | 57 | 22.3
West South Central | 519 | 114 | 22.0
Mountain | 229 | 60 | 26.2
Pacific | 397 | 118 | 29.7
Source: FY 2019 HAC Reduction Program Final Rule Results are based on CMS PSI 90 Composite data from October 2015 through June 2017 and CDC CLABSI, CAUTI, SSI, CDI, and MRSA results from January 2016 through December 2017. Hospital Characteristics are based on the FY 2019 Hospital Inpatient Prospective Payment System (IPPS) Proposed Rule Impact File.
ᵃ This column is the number of non-Maryland hospitals with a Total HAC Score within the corresponding characteristic that are estimated to be in the worst-performing quartile.
ᵇ This column is the percent of non-Maryland hospitals within each characteristic that are estimated to be in the worst-performing quartile. The percentages are calculated by dividing the number of non-Maryland hospitals with a Total HAC Score in the worst-performing quartile by the total number of non-Maryland hospitals with a Total HAC Score within that characteristic.
ᶜ The number of non-Maryland hospitals with a FY 2019 Total HAC Score (N=3,219). Note that not all hospitals have data for all hospital characteristics.
ᵈ The number of hospitals that had information for geographic location with bed size, Safety-net status, Disproportionate Share Hospital (DSH) percent, teaching status, and ownership status (n=3,201).
ᵉ A hospital is considered a Safety-net hospital if it is in the top quintile for DSH percent.
ᶠ The DSH patient percentage is equal to the sum of (1) the percentage of Medicare inpatient days attributable to patients eligible for both Medicare Part A and Supplemental Security Income and (2) the percentage of total inpatient days attributable to patients eligible for Medicaid but not Medicare Part A.
ᵍ A hospital is considered a teaching hospital if it has an Indirect Medical Education adjustment factor for Operation PPS (TCHOP) greater than zero.
ʰ Not all hospitals had data for MCR percent (n=3,175).
ⁱ Not all hospitals had data for Region (n=3,217).

13. On page 41763—

a. Second column, fourth bullet, the figure “0.9975” is corrected to read “0.9969”.

b. Third column, first full paragraph, line 5, the figure “3,256” is corrected to read “3,255”.

14. On page 41764, third column—

a. Line 12, the figure “1.0” is corrected to read “1.1”.

b. Line 14, the figure “3.0” is corrected to read “2.9”.

15. On pages 41764 through 41765, the table titled “TABLE III—COMPARISON OF TOTAL PAYMENTS PER CASE [FY 2018 payments compared to FY 2019 payments]” is corrected to read as follows:

Table III—Comparison of Total Payments per Case
[FY 2018 payments compared to FY 2019 payments]
| Number of hospitals | Average FY 2018 payments/case | Average FY 2019 payments/case | Percent change
By Geographic Location:
All hospitals | 3,255 | $943 | $963 | 2.1
Large urban areas (populations over 1 million) | 2,483 | 974 | 997 | 2.3
Other urban areas (populations of 1 million of fewer) | 1,302 | 1,011 | 1,042 | 3.2
Urban hospitals | 1,181 | 939 | 952 | 1.4
0-99 beds | 644 | 789 | 812 | 3.0
100-199 beds | 763 | 835 | 854 | 2.4
200-299 beds | 433 | 902 | 922 | 2.2
300-499 beds | 424 | 981 | 1,003 | 2.2
500 or more beds | 219 | 1,170 | 1,197 | 2.3
Rural hospitals | 772 | 666 | 659 | −0.9
0-49 beds | 305 | 541 | 556 | 2.6
50-99 beds | 274 | 606 | 621 | 2.3
100-149 beds | 108 | 677 | 654 | −3.3
150-199 beds | 45 | 729 | 706 | −3.2
200 or more beds | 40 | 808 | 781 | −3.3
By Region:
Urban by Region | 2,483 | 974 | 997 | 2.3
New England | 113 | 1,068 | 1,108 | 3.8
Middle Atlantic | 310 | 1,069 | 1,090 | 2.0
South Atlantic | 401 | 866 | 883 | 2.0
East North Central | 386 | 938 | 951 | 1.4
East South Central | 147 | 821 | 838 | 2.1
West North Central | 158 | 959 | 977 | 1.9
West South Central | 379 | 881 | 908 | 3.1
Mountain | 164 | 1,011 | 1,028 | 1.5
Pacific | 374 | 1,238 | 1,281 | 3.4
Puerto Rico | 51 | 447 | 455 | 1.7
Rural by Region | 772 | 666 | 660 | −0.9
New England | 20 | 922 | 918 | −0.5
Middle Atlantic | 53 | 639 | 638 | −0.3
South Atlantic | 122 | 619 | 610 | −1.4
East North Central | 114 | 675 | 671 | −0.6
East South Central | 150 | 623 | 606 | −2.6
West North Central | 94 | 706 | 704 | −0.2
West South Central | 145 | 590 | 588 | −0.3
Mountain | 51 | 742 | 752 | 1.2
Pacific | 23 | 865 | 864 | −0.5
By Payment Classification:
All hospitals | 3,255 | 943 | 963 | 2.1
Large urban areas (populations over 1 million) | 1,317 | 1,010 | 1,042 | 3.2
Other urban areas (populations of 1 million of fewer) | 947 | 895 | 919 | 2.6
Rural areas | 991 | 884 | 875 | −1.1
Teaching Status:
Non-teaching | 2,156 | 800 | 816 | 1.9
Fewer than 100 Residents | 849 | 909 | 925 | 1.8
100 or more Residents | 250 | 1,308 | 1,342 | 2.7
Urban DSH:
Non-DSH | 520 | 867 | 890 | 2.6
100 or more beds | 1,462 | 984 | 1,013 | 3.0
Less than 100 beds | 367 | 720 | 743 | 3.1
Rural DSH:
Sole Community (SCH/EACH) | 255 | 680 | 681 | 0.1
Referral Center (RRC/EACH) | 382 | 947 | 931 | −1.6
Other Rural:
100 or more beds | 33 | 1,068 | 1,053 | −1.4
Less than 100 beds | 236 | 530 | 543 | 2.4
Urban teaching and DSH:
Both teaching and DSH | 805 | 1,055 | 1,087 | 3.1
Teaching and no DSH | 89 | 912 | 934 | 2.4
No teaching and DSH | 1,024 | 833 | 856 | 2.8
No teaching and no DSH | 346 | 847 | 871 | 2.8
Rural Hospital Types:
Plain Rural | 178 | 831 | 831 | 0.0
RRC/EACH | 327 | 968 | 960 | −0.7
SCH/EACH | 312 | 749 | 752 | 0.5
SCH, RRC and EACH | 134 | 807 | 797 | −1.3
Hospitals Reclassified by the Medicare Geographic Classification Review Board:
FY2018 Reclassifications:
All Urban Reclassified | 588 | 995 | 1,006 | 1.1
All Urban Non-Reclassified | 1,835 | 966 | 996 | 2.9
All Rural Reclassified | 271 | 704 | 690 | −1.8
All Rural Non-Reclassified | 454 | 613 | 615 | 0.2
All Section 401 Reclassified Hospitals | 266 | 1,033 | 1,022 | −1.1
Other Reclassified Hospitals (Section 1886(d)(8)(B)) | 47 | 651 | 661 | 1.6
Type of Ownership:
Voluntary | 1,898 | 959 | 976 | 1.8
Proprietary | 856 | 851 | 871 | 2.3
Government | 501 | 981 | 1,011 | 3.1
Medicare Utilization as a Percent of Inpatient Days:
0-25 | 601 | 1,076 | 1,104 | 2.6
25-50 | 2,139 | 942 | 961 | 2.1
50-65 | 421 | 774 | 784 | 1.3
Over 65 | 73 | 567 | 582 | 2.7

16. On page 41766,

a. First column, last paragraph,

i. Line 4, the figure “41,579.65” is corrected to read “$41,558.68”.

ii. Line 8, the figure “0.999713” is corrected to read “0.999215”.

b. Second column,

i. First partial paragraph,

A. Line 4, the figure “0.990884” is corrected to read “0.990878”.

B. Line 12, the figure “$40,759.12” is corrected to read “$40,738.57”.

ii. Second full paragraph, line 14, the figure “0.999713” is corrected to read “0.999215”.

iii. Last paragraph, line 7, the figure “0.990884” is corrected to read “0.990878”.

17. On page 41768, first column,

a. Line 8, the figure “41,579.65” is corrected to read “$41,558.68”.

b. Line 9, the figure “40,759.12” is corrected to read “$40,738.57”.

18. On pages 41768 and 41769, the table entitled “TABLE IV—IMPACT OF PAYMENT RATE AND POLICY CHANGES TO LTCH PPS PAYMENTS FOR LTCH PPS STANDARD FEDERAL PAYMENT RATE CASES FOR FY 2019”, is corrected to read as follows:

Table IV—Impact of Payment Rate and Policy Changes to LTCH PPS Payments for LTCH PPS Standard Federal Payment Rate Cases for FY 2019
[Estimated FY 2018 payments compared to estimated FY 2019 payments]
LTCH classification | Number of LTCHS | Number of LTCH PPS standard payment rate cases | Average FY 2018 LTCH PPS payment per standard payment rate | Average FY 2019 LTCH PPS payment per standard payment rate ¹ | Percent change due to change to the annual update to the standard federal rate ² | Percent change due to changes to area wage adjustment with wage budget neutrality ³ | Percent change due to all standard payment rate changes ⁴
(1) | (2) | (3) | (4) | (5) | (6) | (7) | (8)
All Providers | 409 | 75,416 | $46,852 | $47,334 | 1.3 | 0 | 1.0
By Location:
Rural | 21 | 2,457 | 39,339 | 39,714 | 1.3 | −0.1 | 1.0
Urban | 388 | 72,959 | 47,105 | 47,591 | 1.3 | 0 | 1.0
Large | 195 | 40,491 | 50,164 | 50,740 | 1.3 | 0 | 1.1
Other | 193 | 32,468 | 43,291 | 43,664 | 1.3 | 0 | 0.9
By Participation Date:
Before Oct. 1983 | 11 | 1,923 | 43,083 | 43,225 | 1.3 | −0.5 | 0.3
Oct. 1983-Sept. 1993 | 42 | 9,632 | 51,709 | 52,481 | 1.3 | 0.2 | 1.5
Oct. 1993-Sept. 2002 | 169 | 31,338 | 45,565 | 45,991 | 1.3 | 0 | 0.9
After October 2002 | 187 | 32,523 | 46,877 | 47,347 | 1.3 | 0 | 1.0
By Ownership Type:
Voluntary | 77 | 10,614 | 48,824 | 49,614 | 1.3 | 0.3 | 1.6
Proprietary | 319 | 63,040 | 46,378 | 46,799 | 1.3 | −0.1 | 0.9
Government | 13 | 1,762 | 51,945 | 52,739 | 1.3 | 0.0 | 1.5
By Region:
New England | 12 | 2,707 | 43,164 | 43,275 | 1.3 | −0.4 | 0.3
Middle Atlantic | 24 | 5,959 | 50,920 | 51,553 | 1.3 | −0.1 | 1.2
South Atlantic | 66 | 13,792 | 47,641 | 48,127 | 1.3 | −0.1 | 1.0
East North Central | 68 | 11,843 | 46,386 | 46,711 | 1.3 | −0.3 | 0.7
East South Central | 36 | 6,385 | 45,490 | 45,978 | 1.3 | 0 | 1.1
West North Central | 28 | 4,412 | 45,951 | 46,428 | 1.3 | −0.3 | 1.0
West South Central | 120 | 18,361 | 41,402 | 41,785 | 1.3 | 0.2 | 0.9
Mountain | 29 | 4,070 | 47,897 | 48,125 | 1.4 | −0.5 | 0.5
Pacific | 26 | 7,887 | 58,121 | 59,205 | 1.3 | 0.7 | 1.9
By Bed Size:
Beds: 0-24 | 43 | 4,206 | 44,740 | 45,008 | 1.3 | −0.4 | 0.6
Beds: 25-49 | 185 | 26,270 | 44,623 | 45,044 | 1.3 | 0 | 0.9
Beds: 50-74 | 107 | 20,178 | 47,733 | 48,246 | 1.3 | 0 | 1.1
Beds: 75-124 | 43 | 12,086 | 50,145 | 50,770 | 1.3 | 0.1 | 1.2
Beds: 125-199 | 22 | 7,709 | 47,404 | 47,768 | 1.3 | −0.3 | 0.8
Beds: 200+ | 9 | 4,967 | 47,988 | 48,682 | 1.3 | 0.5 | 1.4
¹ Estimated FY 2019 LTCH PPS payments for LTCH PPS standard Federal payment rate criteria based on the payment rate and factor changes applicable to such cases presented in the preamble of and the Addendum to this final rule.
² Percent change in estimated payments per discharge for LTCH PPS standard Federal payment rate cases from FY 2018 to FY 2019 for the annual update to the LTCH PPS standard Federal payment rate.
³ Percent change in estimated payments per discharge for LTCH PPS standard Federal payment rate cases from FY 2018 to FY 2019 for changes to the area wage level adjustment under § 412.525(c) (as discussed in section V.B. of the Addendum to this final rule).
⁴ Percent change in estimated payments per discharge for LTCH PPS standard Federal payment rate cases from FY 2018 (shown in Column 4) to FY 2019 (shown in Column 5), including all of the changes to the rates and factors applicable to such cases presented in the preamble and the Addendum to this final rule. We note that this column, which shows the percent change in estimated payments per discharge for all changes, does not equal the sum of the percent changes in estimated payments per discharge for the annual update to the LTCH PPS standard Federal payment rate (Column 6) and the changes to the area wage level adjustment with budget neutrality (Column 7) due to the effect of estimated changes in estimated payments to aggregate HCO payments for LTCH PPS standard Federal payment rate cases (as discussed in this impact analysis), as well as other interactive effects that cannot be isolated.

19. On page 41769, lower two-thirds of the page—

a. First column, last paragraph, line 13, the figure “0.999713” is corrected to read “0.999215”.

b. Second column,

i. First partial paragraph, line 1, the figure “0.999713” is corrected to read “0.999215”.

ii. Last paragraph, line 16, the figure “0.9” is corrected to read “1.0”.

c. Third column, second full paragraph, line 5, the figure “0.4” is corrected to read “0.3”.

20. On page 41770, first column,

a. First full paragraph, line 5, the word “Pacific” is corrected to read “Mountain”,

b. First full paragraph, line 7, the word “Mountain” is corrected to read “Pacific”,

c. First full paragraph, line 9, the figure “0.4” is corrected to read “0.5”,

d. Second full paragraph, line 9, the figure “1.5” is corrected to read “1.4”.

Dated: September 27, 2018.
Wilma M. Robinson,
Deputy Executive Secretary to the Department, Department of Health and Human Services.

[FR Doc. 2018-21500 Filed 9-28-18; 4:15 pm]

BILLING CODE 4120-01-P